DEPARTMENT OF AGRICULTURE

Agricultural Marketing Service

7 CFR Part 1205

[Doc. # AMS-CN-19-0007]

Cotton Board Rules and Regulations: Adjusting Supplemental Assessment on Imports (2019 Amendments)

AGENCY: Agricultural Marketing Service, USDA.

ACTION: Direct final rule.

SUMMARY: The Agricultural Marketing Service (AMS) is amending the Cotton Board Rules and Regulations, increasing the value assigned to imported cotton for the purposes of calculating supplemental assessments collected for use by the Cotton Research and Promotion Program. This amendment is required each year to ensure that assessments collected on imported cotton and the cotton content of imported products will be the same as those paid on domestically produced cotton. In addition, AMS is updating the Harmonized Tariff Schedule (HTS) statistical reporting numbers that were amended since the last assessment adjustment in 2018.

DATES: This direct rule is effective December 16, 2019, without further action or notice, unless significant adverse comment is received by November 14, 2019. If significant adverse comment is received, AMS will publish a timely withdrawal of the amendment in the Federal Register.

ADDRESSES: Written comments may be submitted to the addresses specified below. All comments will be made available to the public. Please do not include personally identifiable information (such as name, address, or other contact information) or confidential business information that you do not want publically disclosed. All comments may be posted on the internet and can be retrieved by most internet search engines. Comments may be submitted anonymously.

Comments, identified by AMS-CN-19-0007, may be submitted electronically through the Federal eRulemaking Portal at http://www.regulations.gov. Please follow the instructions for submitting comments. In addition, comments may be submitted by mail or hand delivery to Cotton Research and Promotion, Cotton and Tobacco Program, AMS, USDA, 100 Riverside Parkway, Suite 101, Fredericksburg, Virginia, 22406. Comments should be submitted in triplicate. All comments received will be made available for public inspection at Cotton and Tobacco Program, AMS, USDA, 100 Riverside Parkway, Suite 101, Fredericksburg, Virginia, 22406. A copy of this document may be found at: www.regulations.gov.

FOR FURTHER INFORMATION CONTACT: Shethir M. Riva, Director, Research and Promotion, Cotton and Tobacco Program, AMS, USDA, 100 Riverside Parkway Suite 101, Fredericksburg, Virginia, 22406, telephone (540) 361-2726, facsimile (540) 361-1199, or email at Shethir.Riva@ams.usda.gov.

SUPPLEMENTARY INFORMATION:

A. Background

Amendments to the Cotton Research and Promotion Act (7 U.S.C. 2101-2118) (Act) were enacted by Congress under Subtitle G of Title XIX of the Food, Agriculture, Conservation, and Trade Act of 1990 (Pub. L. 101-624, 104 Stat. 3909, November 28, 1990). These amendments contained two provisions that authorize changes in the funding procedures for the Cotton Research and Promotion Program. These provisions provide for: (1) The assessment of imported cotton and cotton products; and (2) termination of refunds to cotton producers. (Prior to the 1990 amendments to the Act, producers could request assessment refunds.)

As amended, the Cotton Research and Promotion Order (7 CFR part 1205) (Order) was approved by producers and importers voting in a referendum held July 17-26, 1991, and the amended Order was published in the Federal Register on December 10, 1991, (56 FR 64470). A proposed rule implementing the amended Order was published in the Federal Register on December 17, 1991, (56 FR 65450). Implementing rules were published on July 1 and 2, 1992, (57 FR 29181) and (57 FR 29431), respectively.

This direct final rule would amend the value assigned to imported cotton in the Cotton Board Rules and Regulations (7 CFR 1205.510(b)(2)) that is used to determine the Cotton Research and Promotion assessment on imported cotton and cotton products. The total value of assessment levied on cotton imports is the sum of two parts. The first part of the assessment is based on the weight of cotton imported—levied at a rate of $1 per bale of cotton, which is equivalent to 500 pounds, or $1 per 226.8 kilograms of cotton. The second part of the import assessment (referred to as the supplemental assessment) is based on the value of imported cotton lint or the cotton contained in imported cotton products—levied at a rate of five-tenths of one percent of the value of domestically produced cotton.

Section 1205.510(b)(2) of the Cotton Research and Promotion Rules and Regulations provides for assigning the calendar year weighted average price received by U.S. farmers for Upland cotton to represent the value of imported cotton. This is so that the assessment on domestically produced cotton and the assessment on imported cotton and the cotton content of imported products is the same. The source for the average price statistic is Agricultural Prices, a publication of the National Agricultural Statistics Service (NASS) of the Department of Agriculture. Use of the weighted average price figure in the calculation of supplemental assessments on imported cotton and the cotton content of imported products will yield an assessment that is the same as assessments paid on domestically produced cotton.

The current value of imported cotton as published in 2018 in the Federal Register (83 FR 40931) for the purpose of calculating assessments on imported cotton is $0.011905 per kilogram. Using the average weighted price received by U.S. farmers for Upland cotton for the calendar year 2018, this direct final rule would amend the new value of imported cotton to $0.012222 per kilogram to reflect the price received by U.S. farmers for Upland cotton during 2018.

An example of the complete assessment formula and how the figures are obtained is as follows:

One bale is equal to 500 pounds.

One kilogram equals 2.2046 pounds.

One pound equals 0.453597 kilograms.

One Dollar per Bale Assessment Converted to Kilograms

A 500-pound bale equals 226.8 kg. (500 × 0.453597).

$1 per bale assessment equals $0.002000 per pound or $0.2000 cents per pound (1/500) or $0.004409 per kg or $0.4409 cents per kg. (1/226.8).

Supplemental Assessment of 5/10 of One Percent of the Value of the Cotton Converted to Kilograms

The 2018 calendar year weighted average price received by producers for Upland cotton is $0.709 per pound or $1.563 per kg. (0.709 × 2.2046).

Five tenths of one percent of the average price equals $0.007813 per kg. (1.563 × 0.005).

Total Assessment

The total assessment per kilogram of raw cotton is obtained by adding the $1 per bale equivalent assessment of $0.004409 per kg. and the supplemental assessment $0.007813 per kg., which equals $0.012222 per kg.

The current assessment on imported cotton is $0.011905 per kilogram of imported cotton. The revised assessment in this direct final rule is $0.012222, an increase of $0.000317 per kilogram. This increase reflects the increase in the average weighted price of Upland cotton received by U.S. farmers during the period January through December 2018.

Import Assessment Table in section 1205.510(b)(3) indicates the total assessment rate ($ per kilogram) due for each Harmonized Tariff Schedule (HTS) number that is subject to assessment. This table must be revised each year to reflect changes in supplemental assessment rates and any changes to the HTS numbers. In this direct final rule, AMS is amending the Import Assessment Table.

AMS believes that these amendments are necessary to ensure that assessments collected on imported cotton and the cotton content of imported products are the same as those paid on domestically produced cotton. Accordingly, changes reflected in this rule should be adopted and implemented as soon as possible since it is required by regulation.

As described in this Federal Register document, the amendment to the value used to determine the Cotton Research and Promotion Program importer assessment will be updated to reflect the assessment already paid by U.S. farmers. For the reasons mentioned above, AMS finds that publishing a proposed rule and seeking public comment is unnecessary because the change is required annually by regulation in 7 CFR 1205.510.

Also, this direct-final rulemaking furthers the objectives of Executive Order 13563, which requires that the regulatory process “promote predictability and reduce uncertainty” and “identify and use the best, most innovative, and least burdensome tools for achieving regulatory ends.”

AMS has used the direct rule rulemaking process since 2013 and has not received any adverse comments; however, if AMS does receives significant adverse comments during the comment period, it will publish, in a timely manner, a document in the Federal Register withdrawing this direct final rule. AMS will then address public comments in a subsequent proposed rule and final rule based on the proposed rule.

B. Regulatory Impact Analysis

Executive Order 13175

This action has been reviewed in accordance with the requirements of Executive Order 13175, Consultation and Coordination with Indian Tribal Governments. The review reveals that this regulation would not have substantial and direct effects on Tribal governments and would not have significant Tribal implications.

Executive Orders 12866 and 13563

Executive Orders 12866 and 13563 direct agencies to assess all costs and benefits of available regulatory alternatives and, if regulation is necessary, to select regulatory approaches that maximize net benefits (including potential economic, environmental, public health, and safety effects; distributive impacts; and equity). Executive Order 13563 emphasizes the importance of quantifying both costs and benefits, reducing costs, harmonizing rules, and promoting flexibility. This action falls within a category of regulatory actions that the Office of Management and Budget (OMB) exempted from Executive Order 12866 review. Additionally, because this rule does not meet the definition of a significant regulatory action it does not trigger the requirements contained in Executive Order 13771. See OMB's Memorandum titled “Interim Guidance Implementing Section 2 of the Executive Order of January 30, 2017 titled `Reducing Regulation and Controlling Regulatory Costs' ” (February 2, 2017).

Executive Order 12988

This rule has been reviewed under Executive Order 12988, Civil Justice Reform. It is not intended to have retroactive effect.

The Act provides that administrative proceedings must be exhausted before parties may file suit in court. Under section 12 of the Act, any person subject to an order may file with the Secretary of Agriculture (Secretary) a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of the Secretary's ruling.

Regulatory Flexibility Act and Paperwork Reduction Act

In accordance with the Regulatory Flexibility Act (RFA) (5 U.S.C. 601-612), AMS has examined the economic impact of this rule on small entities. The purpose of the RFA is to fit regulatory actions to the scale of businesses subject to such action so that small businesses will not be unduly or disproportionately burdened. The Small Business Administration defines, in 13 CFR part 121.201, small agricultural producers as those having annual receipts of no more than $750,000 and small “Other Farm Product Raw Material Merchant Wholesalers” (cotton merchants/importers) as having no more than 100 employees. The Cotton Board estimates 37,000 importers are subject to the rules and regulations issued pursuant to the Cotton Research and Promotion Order. According to the United States Census Bureau's “2016 Survey of SUSB Annual Data Tables by Establishment Industry,” most importers are considered small entities as defined by the Small Business Administration (13 CFR part 121.201). This rule would only affect importers of cotton and cotton-containing products and would increase the assessments paid by the importers under the Cotton Research and Promotion Order. The current assessment on imported cotton is $0.011905 per kilogram of imported cotton. The amended assessment would be $0.012222, which was calculated based on the 12-month weighted average of price received by U.S. cotton farmers. Section 1205.510, “Levy of assessments”, provides “The rate of the supplemental assessment on imported cotton will be the same as that levied on cotton produced within the United States.” In addition, section 1205.510 provides that the 12-month weighted average of prices received by U.S. farmers will be used as the value of imported cotton for the purpose of levying the supplemental assessment on imported cotton.

Under the Cotton Research and Promotion Program, assessments are used by the Cotton Board to finance research and promotion programs designed to increase consumer demand for Upland cotton in the United States and international markets. In 2017 (the last audited year), producer assessments totaled $49.4 million and importer assessments totaled $35.3 million. According to the Cotton Board, should the volume of cotton products imported into the U.S. remain at the same level in 2019, one could expect an increase of assessments by approximately $1,068,645.

Imported organic cotton and products may be exempt from assessment if eligible under section 1205.519 of the Order.

There are no Federal rules that duplicate, overlap, or conflict with this rule.

In compliance with Office of Management and Budget (OMB) regulations (5 CFR part 1320) which implement the Paperwork Reduction Act (PRA) (44 U.S.C. Chapter 35) the information collection requirements contained in the regulation to be amended have been previously approved by OMB and were assigned control number 0581-0093, National Research, Promotion, and Consumer Information Programs. This rule does not result in a change to the information collection and recordkeeping requirements previously approved.

A 30-day comment period is provided to comment on the changes to the Cotton Board Rules and Regulations proposed herein. This period is deemed appropriate because an amendment is required to adjust the assessments collected on imported cotton and the cotton content of imported products to be the same as those paid on domestically produced cotton. Accordingly, the change in this rule, if adopted, should be implemented as soon as possible.

List of Subjects in 7 CFR Part 1205

Advertising, Agricultural research, Cotton, Marketing agreements, Reporting and recordkeeping requirements.

For the reasons set forth in the preamble, AMS amends 7 CFR part 1205 as follows:

PART 1205—COTTON RESEARCH AND PROMOTION

1. The authority citation for part 1205 continues to read as follows:

Authority: 7 U.S.C. 2101-2118; 7 U.S.C 7401.

2. In § 1205.510, paragraph (b)(2) and the table in paragraph (b)(3) are revised to read as follows:

§ 1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is $1.2222 cents per kilogram.

(3) * * *

Import Assessment Table
[Raw cotton fiber]
HTS No. | Conv. Factor | Cents/kg.
5007106010 | 0.2713 | 0.3315829
5007106020 | 0.2713 | 0.3315829
5007906010 | 0.2713 | 0.3315829
5007906020 | 0.2713 | 0.3315829
5112904000 | 0.1085 | 0.1326087
5112905000 | 0.1085 | 0.1326087
5112909010 | 0.1085 | 0.1326087
5112909090 | 0.1085 | 0.1326087
5201000500 | 1 | 1.2222000
5201001200 | 1 | 1.2222000
5201001400 | 1 | 1.2222000
5201001800 | 1 | 1.2222000
5201002200 | 1 | 1.2222000
5201002400 | 1 | 1.2222000
5201002800 | 1 | 1.2222000
5201003400 | 1 | 1.2222000
5201003800 | 1 | 1.2222000
5204110000 | 1.0526 | 1.2864877
5204190000 | 0.6316 | 0.7719415
5204200000 | 1.0526 | 1.2864877
5205111000 | 1 | 1.2222000
5205112000 | 1 | 1.2222000
5205121000 | 1 | 1.2222000
5205122000 | 1 | 1.2222000
5205131000 | 1 | 1.2222000
5205132000 | 1 | 1.2222000
5205141000 | 1 | 1.2222000
5205142000 | 1 | 1.2222000
5205151000 | 1 | 1.2222000
5205152000 | 1 | 1.2222000
5205210020 | 1.044 | 1.2759768
5205210090 | 1.044 | 1.2759768
5205220020 | 1.044 | 1.2759768
5205220090 | 1.044 | 1.2759768
5205230020 | 1.044 | 1.2759768
5205230090 | 1.044 | 1.2759768
5205240020 | 1.044 | 1.2759768
5205240090 | 1.044 | 1.2759768
5205260020 | 1.044 | 1.2759768
5205260090 | 1.044 | 1.2759768
5205270020 | 1.044 | 1.2759768
5205270090 | 1.044 | 1.2759768
5205280020 | 1.044 | 1.2759768
5205280090 | 1.044 | 1.2759768
5205310000 | 1 | 1.2222000
5205320000 | 1 | 1.2222000
5205330000 | 1 | 1.2222000
5205340000 | 1 | 1.2222000
5205350000 | 1 | 1.2222000
5205410020 | 1.044 | 1.2759768
5205410090 | 1.044 | 1.2759768
5205420021 | 1.044 | 1.2759768
5205420029 | 1.044 | 1.2759768
5205420090 | 1.044 | 1.2759768
5205430021 | 1.044 | 1.2759768
5205430029 | 1.044 | 1.2759768
5205430090 | 1.044 | 1.2759768
5205440021 | 1.044 | 1.2759768
5205440029 | 1.044 | 1.2759768
5205440090 | 1.044 | 1.2759768
5205460021 | 1.044 | 1.2759768
5205460029 | 1.044 | 1.2759768
5205460090 | 1.044 | 1.2759768
5205470021 | 1.044 | 1.2759768
5205470029 | 1.044 | 1.2759768
5205470090 | 1.044 | 1.2759768
5205480020 | 1.044 | 1.2759768
5205480090 | 1.044 | 1.2759768
5206110000 | 0.7368 | 0.9005170
5206120000 | 0.7368 | 0.9005170
5206130000 | 0.7368 | 0.9005170
5206140000 | 0.7368 | 0.9005170
5206150000 | 0.7368 | 0.9005170
5206210000 | 0.7692 | 0.9401162
5206220000 | 0.7692 | 0.9401162
5206230000 | 0.7692 | 0.9401162
5206240000 | 0.7692 | 0.9401162
5206250000 | 0.7692 | 0.9401162
5206310000 | 0.7368 | 0.9005170
5206320000 | 0.7368 | 0.9005170
5206330000 | 0.7368 | 0.9005170
5206340000 | 0.7368 | 0.9005170
5206350000 | 0.7368 | 0.9005170
5206410000 | 0.7692 | 0.9401162
5206420000 | 0.7692 | 0.9401162
5206430000 | 0.7692 | 0.9401162
5206440000 | 0.7692 | 0.9401162
5206450000 | 0.7692 | 0.9401162
5207100000 | 0.9474 | 1.1579123
5207900000 | 0.6316 | 0.7719415
5208112020 | 1.0852 | 1.3263314
5208112040 | 1.0852 | 1.3263314
5208112090 | 1.0852 | 1.3263314
5208114020 | 1.0852 | 1.3263314
5208114040 | 1.0852 | 1.3263314
5208114060 | 1.0852 | 1.3263314
5208114090 | 1.0852 | 1.3263314
5208116000 | 1.0852 | 1.3263314
5208118020 | 1.0852 | 1.3263314
5208118090 | 1.0852 | 1.3263314
5208124020 | 1.0852 | 1.3263314
5208124040 | 1.0852 | 1.3263314
5208124090 | 1.0852 | 1.3263314
5208126020 | 1.0852 | 1.3263314
5208126040 | 1.0852 | 1.3263314
5208126060 | 1.0852 | 1.3263314
5208126090 | 1.0852 | 1.3263314
5208128020 | 1.0852 | 1.3263314
5208128090 | 1.0852 | 1.3263314
5208130000 | 1.0852 | 1.3263314
5208192020 | 1.0852 | 1.3263314
5208192090 | 1.0852 | 1.3263314
5208194020 | 1.0852 | 1.3263314
5208194090 | 1.0852 | 1.3263314
5208196020 | 1.0852 | 1.3263314
5208196090 | 1.0852 | 1.3263314
5208198020 | 1.0852 | 1.3263314
5208198090 | 1.0852 | 1.3263314
5208212020 | 1.0852 | 1.3263314
5208212040 | 1.0852 | 1.3263314
5208212090 | 1.0852 | 1.3263314
5208214020 | 1.0852 | 1.3263314
5208214040 | 1.0852 | 1.3263314
5208214060 | 1.0852 | 1.3263314
5208214090 | 1.0852 | 1.3263314
5208216020 | 1.0852 | 1.3263314
5208216090 | 1.0852 | 1.3263314
5208224020 | 1.0852 | 1.3263314
5208224040 | 1.0852 | 1.3263314
5208224090 | 1.0852 | 1.3263314
5208226020 | 1.0852 | 1.3263314
5208226040 | 1.0852 | 1.3263314
5208226060 | 1.0852 | 1.3263314
5208226090 | 1.0852 | 1.3263314
5208228020 | 1.0852 | 1.3263314
5208228090 | 1.0852 | 1.3263314
5208230000 | 1.0852 | 1.3263314
5208292020 | 1.0852 | 1.3263314
5208292090 | 1.0852 | 1.3263314
5208294020 | 1.0852 | 1.3263314
5208294090 | 1.0852 | 1.3263314
5208296020 | 1.0852 | 1.3263314
5208296090 | 1.0852 | 1.3263314
5208298020 | 1.0852 | 1.3263314
5208298090 | 1.0852 | 1.3263314
5208312000 | 1.0852 | 1.3263314
5208314020 | 1.0852 | 1.3263314
5208314040 | 1.0852 | 1.3263314
5208314090 | 1.0852 | 1.3263314
5208316020 | 1.0852 | 1.3263314
5208316040 | 1.0852 | 1.3263314
5208316060 | 1.0852 | 1.3263314
5208316090 | 1.0852 | 1.3263314
5208318020 | 1.0852 | 1.3263314
5208318090 | 1.0852 | 1.3263314
5208321000 | 1.0852 | 1.3263314
5208323020 | 1.0852 | 1.3263314
5208323040 | 1.0852 | 1.3263314
5208323090 | 1.0852 | 1.3263314
5208324020 | 1.0852 | 1.3263314
5208324040 | 1.0852 | 1.3263314
5208324060 | 1.0852 | 1.3263314
5208324090 | 1.0852 | 1.3263314
5208325020 | 1.0852 | 1.3263314
5208325090 | 1.0852 | 1.3263314
5208330000 | 1.0852 | 1.3263314
5208392020 | 1.0852 | 1.3263314
5208392090 | 1.0852 | 1.3263314
5208394020 | 1.0852 | 1.3263314
5208394090 | 1.0852 | 1.3263314
5208396020 | 1.0852 | 1.3263314
5208396090 | 1.0852 | 1.3263314
5208398020 | 1.0852 | 1.3263314
5208398090 | 1.0852 | 1.3263314
5208412000 | 1.0852 | 1.3263314
5208414000 | 1.0852 | 1.3263314
5208416000 | 1.0852 | 1.3263314
5208418000 | 1.0852 | 1.3263314
5208421000 | 1.0852 | 1.3263314
5208423000 | 1.0852 | 1.3263314
5208424000 | 1.0852 | 1.3263314
5208425000 | 1.0852 | 1.3263314
5208430000 | 1.0852 | 1.3263314
5208492000 | 1.0852 | 1.3263314
5208494010 | 1.0852 | 1.3263314
5208494020 | 1.0852 | 1.3263314
5208494090 | 1.0852 | 1.3263314
5208496010 | 1.0852 | 1.3263314
5208496020 | 1.0852 | 1.3263314
5208496030 | 1.0852 | 1.3263314
5208496090 | 1.0852 | 1.3263314
5208498020 | 1.0852 | 1.3263314
5208498090 | 1.0852 | 1.3263314
5208512000 | 1.0852 | 1.3263314
5208514020 | 1.0852 | 1.3263314
5208514040 | 1.0852 | 1.3263314
5208514090 | 1.0852 | 1.3263314
5208516020 | 1.0852 | 1.3263314
5208516040 | 1.0852 | 1.3263314
5208516060 | 1.0852 | 1.3263314
5208516090 | 1.0852 | 1.3263314
5208518020 | 1.0852 | 1.3263314
5208518090 | 1.0852 | 1.3263314
5208521000 | 1.0852 | 1.3263314
5208523020 | 1.0852 | 1.3263314
5208523035 | 1.0852 | 1.3263314
5208523045 | 1.0852 | 1.3263314
5208523090 | 1.0852 | 1.3263314
5208524020 | 1.0852 | 1.3263314
5208524035 | 1.0852 | 1.3263314
5208524045 | 1.0852 | 1.3263314
5208524055 | 1.0852 | 1.3263314
5208524065 | 1.0852 | 1.3263314
5208524090 | 1.0852 | 1.3263314
5208525020 | 1.0852 | 1.3263314
5208525090 | 1.0852 | 1.3263314
5208591000 | 1.0852 | 1.3263314
5208592015 | 1.0852 | 1.3263314
5208592025 | 1.0852 | 1.3263314
5208592085 | 1.0852 | 1.3263314
5208592095 | 1.0852 | 1.3263314
5208594020 | 1.0852 | 1.3263314
5208594090 | 1.0852 | 1.3263314
5208596020 | 1.0852 | 1.3263314
5208596090 | 1.0852 | 1.3263314
5208598020 | 1.0852 | 1.3263314
5208598090 | 1.0852 | 1.3263314
5209110020 | 1.0309 | 1.2599660
5209110025 | 1.0309 | 1.2599660
5209110035 | 1.0309 | 1.2599660
5209110050 | 1.0309 | 1.2599660
5209110090 | 1.0309 | 1.2599660
5209120020 | 1.0309 | 1.2599660
5209120040 | 1.0309 | 1.2599660
5209190020 | 1.0309 | 1.2599660
5209190040 | 1.0309 | 1.2599660
5209190060 | 1.0309 | 1.2599660
5209190090 | 1.0309 | 1.2599660
5209210020 | 1.0309 | 1.2599660
5209210025 | 1.0309 | 1.2599660
5209210035 | 1.0309 | 1.2599660
5209210050 | 1.0309 | 1.2599660
5209210090 | 1.0309 | 1.2599660
5209220020 | 1.0309 | 1.2599660
5209220040 | 1.0309 | 1.2599660
5209290020 | 1.0309 | 1.2599660
5209290040 | 1.0309 | 1.2599660
5209290060 | 1.0309 | 1.2599660
5209290090 | 1.0309 | 1.2599660
5209313000 | 1.0309 | 1.2599660
5209316020 | 1.0309 | 1.2599660
5209316025 | 1.0309 | 1.2599660
5209316035 | 1.0309 | 1.2599660
5209316050 | 1.0309 | 1.2599660
5209316090 | 1.0309 | 1.2599660
5209320020 | 1.0309 | 1.2599660
5209320040 | 1.0309 | 1.2599660
5209390020 | 1.0309 | 1.2599660
5209390040 | 1.0309 | 1.2599660
5209390060 | 1.0309 | 1.2599660
5209390080 | 1.0309 | 1.2599660
5209390090 | 1.0309 | 1.2599660
5209413000 | 1.0309 | 1.2599660
5209416020 | 1.0309 | 1.2599660
5209416040 | 1.0309 | 1.2599660
5209420020 | 0.9767 | 1.1937227
5209420040 | 0.9767 | 1.1937227
5209420060 | 0.9767 | 1.1937227
5209420080 | 0.9767 | 1.1937227
5209430030 | 1.0309 | 1.2599660
5209430050 | 1.0309 | 1.2599660
5209490020 | 1.0309 | 1.2599660
5209490040 | 1.0309 | 1.2599660
5209490090 | 1.0309 | 1.2599660
5209513000 | 1.0309 | 1.2599660
5209516015 | 1.0852 | 1.3263314
5209516025 | 1.0852 | 1.3263314
5209516032 | 1.0852 | 1.3263314
5209516035 | 1.0852 | 1.3263314
5209516050 | 1.0852 | 1.3263314
5209516090 | 1.0852 | 1.3263314
5209520020 | 1.0852 | 1.3263314
5209520040 | 1.0852 | 1.3263314
5209590015 | 1.0852 | 1.3263314
5209590025 | 1.0852 | 1.3263314
5209590040 | 1.0852 | 1.3263314
5209590060 | 1.0852 | 1.3263314
5209590090 | 1.0852 | 1.3263314
5210114020 | 0.6511 | 0.7957744
5210114040 | 0.6511 | 0.7957744
5210114090 | 0.6511 | 0.7957744
5210116020 | 0.6511 | 0.7957744
5210116040 | 0.6511 | 0.7957744
5210116060 | 0.6511 | 0.7957744
5210116090 | 0.6511 | 0.7957744
5210118020 | 0.6511 | 0.7957744
5210118090 | 0.6511 | 0.7957744
5210191000 | 0.6511 | 0.7957744
5210192020 | 0.6511 | 0.7957744
5210192090 | 0.6511 | 0.7957744
5210194020 | 0.6511 | 0.7957744
5210194090 | 0.6511 | 0.7957744
5210196020 | 0.6511 | 0.7957744
5210196090 | 0.6511 | 0.7957744
5210198020 | 0.6511 | 0.7957744
5210198090 | 0.6511 | 0.7957744
5210214020 | 0.6511 | 0.7957744
5210214040 | 0.6511 | 0.7957744
5210214090 | 0.6511 | 0.7957744
5210216020 | 0.6511 | 0.7957744
5210216040 | 0.6511 | 0.7957744
5210216060 | 0.6511 | 0.7957744
5210216090 | 0.6511 | 0.7957744
5210218020 | 0.6511 | 0.7957744
5210218090 | 0.6511 | 0.7957744
5210291000 | 0.6511 | 0.7957744
5210292020 | 0.6511 | 0.7957744
5210292090 | 0.6511 | 0.7957744
5210294020 | 0.6511 | 0.7957744
5210294090 | 0.6511 | 0.7957744
5210296020 | 0.6511 | 0.7957744
5210296090 | 0.6511 | 0.7957744
5210298020 | 0.6511 | 0.7957744
5210298090 | 0.6511 | 0.7957744
5210314020 | 0.6511 | 0.7957744
5210314040 | 0.6511 | 0.7957744
5210314090 | 0.6511 | 0.7957744
5210316020 | 0.6511 | 0.7957744
5210316040 | 0.6511 | 0.7957744
5210316060 | 0.6511 | 0.7957744
5210316090 | 0.6511 | 0.7957744
5210318020 | 0.6511 | 0.7957744
5210318090 | 0.6511 | 0.7957744
5210320000 | 0.6511 | 0.7957744
5210392020 | 0.6511 | 0.7957744
5210392090 | 0.6511 | 0.7957744
5210394020 | 0.6511 | 0.7957744
5210394090 | 0.6511 | 0.7957744
5210396020 | 0.6511 | 0.7957744
5210396090 | 0.6511 | 0.7957744
5210398020 | 0.6511 | 0.7957744
5210398090 | 0.6511 | 0.7957744
5210414000 | 0.6511 | 0.7957744
5210416000 | 0.6511 | 0.7957744
5210418000 | 0.6511 | 0.7957744
5210491000 | 0.6511 | 0.7957744
5210492000 | 0.6511 | 0.7957744
5210494010 | 0.6511 | 0.7957744
5210494020 | 0.6511 | 0.7957744
5210494090 | 0.6511 | 0.7957744
5210496010 | 0.6511 | 0.7957744
5210496020 | 0.6511 | 0.7957744
5210496090 | 0.6511 | 0.7957744
5210498020 | 0.6511 | 0.7957744
5210498090 | 0.6511 | 0.7957744
5210514020 | 0.6511 | 0.7957744
5210514040 | 0.6511 | 0.7957744
5210514090 | 0.6511 | 0.7957744
5210516020 | 0.6511 | 0.7957744
5210516040 | 0.6511 | 0.7957744
5210516060 | 0.6511 | 0.7957744
5210516090 | 0.6511 | 0.7957744
5210518020 | 0.6511 | 0.7957744
5210518090 | 0.6511 | 0.7957744
5210591000 | 0.6511 | 0.7957744
5210592020 | 0.6511 | 0.7957744
5210592090 | 0.6511 | 0.7957744
5210594020 | 0.6511 | 0.7957744
5210594090 | 0.6511 | 0.7957744
5210596020 | 0.6511 | 0.7957744
5210596090 | 0.6511 | 0.7957744
5210598020 | 0.6511 | 0.7957744
5210598090 | 0.6511 | 0.7957744
5211110020 | 0.6511 | 0.7957744
5211110025 | 0.6511 | 0.7957744
5211110035 | 0.6511 | 0.7957744
5211110050 | 0.6511 | 0.7957744
5211110090 | 0.6511 | 0.7957744
5211120020 | 0.6511 | 0.7957744
5211120040 | 0.6511 | 0.7957744
5211190020 | 0.6511 | 0.7957744
5211190040 | 0.6511 | 0.7957744
5211190060 | 0.6511 | 0.7957744
5211190090 | 0.6511 | 0.7957744
5211202120 | 0.6511 | 0.7957744
5211202125 | 0.6511 | 0.7957744
5211202135 | 0.6511 | 0.7957744
5211202150 | 0.6511 | 0.7957744
5211202190 | 0.6511 | 0.7957744
5211202220 | 0.6511 | 0.7957744
5211202240 | 0.6511 | 0.7957744
5211202920 | 0.6511 | 0.7957744
5211202940 | 0.6511 | 0.7957744
5211202960 | 0.6511 | 0.7957744
5211202990 | 0.6511 | 0.7957744
5211310020 | 0.6511 | 0.7957744
5211310025 | 0.6511 | 0.7957744
5211310035 | 0.6511 | 0.7957744
5211310050 | 0.6511 | 0.7957744
5211310090 | 0.6511 | 0.7957744
5211320020 | 0.6511 | 0.7957744
5211320040 | 0.6511 | 0.7957744
5211390020 | 0.6511 | 0.7957744
5211390040 | 0.6511 | 0.7957744
5211390060 | 0.6511 | 0.7957744
5211390090 | 0.6511 | 0.7957744
5211410020 | 0.6511 | 0.7957744
5211410040 | 0.6511 | 0.7957744
5211420020 | 0.7054 | 0.8621399
5211420040 | 0.7054 | 0.8621399
5211420060 | 0.6511 | 0.7957744
5211420080 | 0.6511 | 0.7957744
5211430030 | 0.6511 | 0.7957744
5211430050 | 0.6511 | 0.7957744
5211490020 | 0.6511 | 0.7957744
5211490090 | 0.6511 | 0.7957744
5211510020 | 0.6511 | 0.7957744
5211510030 | 0.6511 | 0.7957744
5211510050 | 0.6511 | 0.7957744
5211510090 | 0.6511 | 0.7957744
5211520020 | 0.6511 | 0.7957744
5211520040 | 0.6511 | 0.7957744
5211590015 | 0.6511 | 0.7957744
5211590025 | 0.6511 | 0.7957744
5211590040 | 0.6511 | 0.7957744
5211590060 | 0.6511 | 0.7957744
5211590090 | 0.6511 | 0.7957744
5212111010 | 0.5845 | 0.7143759
5212111020 | 0.6231 | 0.7615528
5212116010 | 0.8681 | 1.0609918
5212116020 | 0.8681 | 1.0609918
5212116030 | 0.8681 | 1.0609918
5212116040 | 0.8681 | 1.0609918
5212116050 | 0.8681 | 1.0609918
5212116060 | 0.8681 | 1.0609918
5212116070 | 0.8681 | 1.0609918
5212116080 | 0.8681 | 1.0609918
5212116090 | 0.8681 | 1.0609918
5212121010 | 0.5845 | 0.7143759
5212121020 | 0.6231 | 0.7615528
5212126010 | 0.8681 | 1.0609918
5212126020 | 0.8681 | 1.0609918
5212126030 | 0.8681 | 1.0609918
5212126040 | 0.8681 | 1.0609918
5212126050 | 0.8681 | 1.0609918
5212126060 | 0.8681 | 1.0609918
5212126070 | 0.8681 | 1.0609918
5212126080 | 0.8681 | 1.0609918
5212126090 | 0.8681 | 1.0609918
5212131010 | 0.5845 | 0.7143759
5212131020 | 0.6231 | 0.7615528
5212136010 | 0.8681 | 1.0609918
5212136020 | 0.8681 | 1.0609918
5212136030 | 0.8681 | 1.0609918
5212136040 | 0.8681 | 1.0609918
5212136050 | 0.8681 | 1.0609918
5212136060 | 0.8681 | 1.0609918
5212136070 | 0.8681 | 1.0609918
5212136080 | 0.8681 | 1.0609918
5212136090 | 0.8681 | 1.0609918
5212141010 | 0.5845 | 0.7143759
5212141020 | 0.6231 | 0.7615528
5212146010 | 0.8681 | 1.0609918
5212146020 | 0.8681 | 1.0609918
5212146030 | 0.8681 | 1.0609918
5212146090 | 0.8681 | 1.0609918
5212151010 | 0.5845 | 0.7143759
5212151020 | 0.6231 | 0.7615528
5212156010 | 0.8681 | 1.0609918
5212156020 | 0.8681 | 1.0609918
5212156030 | 0.8681 | 1.0609918
5212156040 | 0.8681 | 1.0609918
5212156050 | 0.8681 | 1.0609918
5212156060 | 0.8681 | 1.0609918
5212156070 | 0.8681 | 1.0609918
5212156080 | 0.8681 | 1.0609918
5212156090 | 0.8681 | 1.0609918
5212211010 | 0.5845 | 0.7143759
5212211020 | 0.6231 | 0.7615528
5212216010 | 0.8681 | 1.0609918
5212216020 | 0.8681 | 1.0609918
5212216030 | 0.8681 | 1.0609918
5212216040 | 0.8681 | 1.0609918
5212216050 | 0.8681 | 1.0609918
5212216060 | 0.8681 | 1.0609918
5212216090 | 0.8681 | 1.0609918
5212221010 | 0.5845 | 0.7143759
5212221020 | 0.6231 | 0.7615528
5212226010 | 0.8681 | 1.0609918
5212226020 | 0.8681 | 1.0609918
5212226030 | 0.8681 | 1.0609918
5212226040 | 0.8681 | 1.0609918
5212226050 | 0.8681 | 1.0609918
5212226060 | 0.8681 | 1.0609918
5212226090 | 0.8681 | 1.0609918
5212231010 | 0.5845 | 0.7143759
5212231020 | 0.6231 | 0.7615528
5212236010 | 0.8681 | 1.0609918
5212236020 | 0.8681 | 1.0609918
5212236030 | 0.8681 | 1.0609918
5212236040 | 0.8681 | 1.0609918
5212236050 | 0.8681 | 1.0609918
5212236060 | 0.8681 | 1.0609918
5212236090 | 0.8681 | 1.0609918
5212241010 | 0.5845 | 0.7143759
5212241020 | 0.6231 | 0.7615528
5212246010 | 0.8681 | 1.0609918
5212246020 | 0.7054 | 0.8621399
5212246030 | 0.8681 | 1.0609918
5212246040 | 0.8681 | 1.0609918
5212246090 | 0.8681 | 1.0609918
5212251010 | 0.5845 | 0.7143759
5212251020 | 0.6231 | 0.7615528
5212256010 | 0.8681 | 1.0609918
5212256020 | 0.8681 | 1.0609918
5212256030 | 0.8681 | 1.0609918
5212256040 | 0.8681 | 1.0609918
5212256050 | 0.8681 | 1.0609918
5212256060 | 0.8681 | 1.0609918
5212256090 | 0.8681 | 1.0609918
5309213005 | 0.5426 | 0.6631657
5309213010 | 0.5426 | 0.6631657
5309213015 | 0.5426 | 0.6631657
5309213020 | 0.5426 | 0.6631657
5309214010 | 0.2713 | 0.3315829
5309214090 | 0.2713 | 0.3315829
5309293005 | 0.5426 | 0.6631657
5309293010 | 0.5426 | 0.6631657
5309293015 | 0.5426 | 0.6631657
5309293020 | 0.5426 | 0.6631657
5309294010 | 0.2713 | 0.3315829
5309294090 | 0.2713 | 0.3315829
5311003005 | 0.5426 | 0.6631657
5311003010 | 0.5426 | 0.6631657
5311003015 | 0.5426 | 0.6631657
5311003020 | 0.5426 | 0.6631657
5311004010 | 0.8681 | 1.0609918
5311004020 | 0.8681 | 1.0609918
5407810010 | 0.5426 | 0.6631657
5407810020 | 0.5426 | 0.6631657
5407810030 | 0.5426 | 0.6631657
5407810040 | 0.5426 | 0.6631657
5407810090 | 0.5426 | 0.6631657
5407820010 | 0.5426 | 0.6631657
5407820020 | 0.5426 | 0.6631657
5407820030 | 0.5426 | 0.6631657
5407820040 | 0.5426 | 0.6631657
5407820090 | 0.5426 | 0.6631657
5407830010 | 0.5426 | 0.6631657
5407830020 | 0.5426 | 0.6631657
5407830030 | 0.5426 | 0.6631657
5407830040 | 0.5426 | 0.6631657
5407830090 | 0.5426 | 0.6631657
5407840010 | 0.5426 | 0.6631657
5407840020 | 0.5426 | 0.6631657
5407840030 | 0.5426 | 0.6631657
5407840040 | 0.5426 | 0.6631657
5407840090 | 0.5426 | 0.6631657
5509210000 | 0.1053 | 0.1286977
5509220010 | 0.1053 | 0.1286977
5509220090 | 0.1053 | 0.1286977
5509530030 | 0.3158 | 0.3859708
5509530060 | 0.3158 | 0.3859708
5509620000 | 0.5263 | 0.6432439
5509920000 | 0.5263 | 0.6432439
5510300000 | 0.3684 | 0.4502585
5511200000 | 0.3158 | 0.3859708
5512110010 | 0.1085 | 0.1326087
5512110022 | 0.1085 | 0.1326087
5512110027 | 0.1085 | 0.1326087
5512110030 | 0.1085 | 0.1326087
5512110040 | 0.1085 | 0.1326087
5512110050 | 0.1085 | 0.1326087
5512110060 | 0.1085 | 0.1326087
5512110070 | 0.1085 | 0.1326087
5512110090 | 0.1085 | 0.1326087
5512190005 | 0.1085 | 0.1326087
5512190010 | 0.1085 | 0.1326087
5512190015 | 0.1085 | 0.1326087
5512190022 | 0.1085 | 0.1326087
5512190027 | 0.1085 | 0.1326087
5512190030 | 0.1085 | 0.1326087
5512190035 | 0.1085 | 0.1326087
5512190040 | 0.1085 | 0.1326087
5512190045 | 0.1085 | 0.1326087
5512190050 | 0.1085 | 0.1326087
5512190090 | 0.1085 | 0.1326087
5512210010 | 0.0326 | 0.0398437
5512210020 | 0.0326 | 0.0398437
5512210030 | 0.0326 | 0.0398437
5512210040 | 0.0326 | 0.0398437
5512210060 | 0.0326 | 0.0398437
5512210070 | 0.0326 | 0.0398437
5512210090 | 0.0326 | 0.0398437
5512290010 | 0.217 | 0.2652174
5512910010 | 0.0543 | 0.0663655
5512990005 | 0.0543 | 0.0663655
5512990010 | 0.0543 | 0.0663655
5512990015 | 0.0543 | 0.0663655
5512990020 | 0.0543 | 0.0663655
5512990025 | 0.0543 | 0.0663655
5512990030 | 0.0543 | 0.0663655
5512990035 | 0.0543 | 0.0663655
5512990040 | 0.0543 | 0.0663655
5512990045 | 0.0543 | 0.0663655
5512990090 | 0.0543 | 0.0663655
5513110020 | 0.3581 | 0.4376698
5513110040 | 0.3581 | 0.4376698
5513110060 | 0.3581 | 0.4376698
5513110090 | 0.3581 | 0.4376698
5513120000 | 0.3581 | 0.4376698
5513130020 | 0.3581 | 0.4376698
5513130040 | 0.3581 | 0.4376698
5513130090 | 0.3581 | 0.4376698
5513190010 | 0.3581 | 0.4376698
5513190020 | 0.3581 | 0.4376698
5513190030 | 0.3581 | 0.4376698
5513190040 | 0.3581 | 0.4376698
5513190050 | 0.3581 | 0.4376698
5513190060 | 0.3581 | 0.4376698
5513190090 | 0.3581 | 0.4376698
5513210020 | 0.3581 | 0.4376698
5513210040 | 0.3581 | 0.4376698
5513210060 | 0.3581 | 0.4376698
5513210090 | 0.3581 | 0.4376698
5513230121 | 0.3581 | 0.4376698
5513230141 | 0.3581 | 0.4376698
5513230191 | 0.3581 | 0.4376698
5513290010 | 0.3581 | 0.4376698
5513290020 | 0.3581 | 0.4376698
5513290030 | 0.3581 | 0.4376698
5513290040 | 0.3581 | 0.4376698
5513290050 | 0.3581 | 0.4376698
5513290060 | 0.3581 | 0.4376698
5513290090 | 0.3581 | 0.4376698
5513310000 | 0.3581 | 0.4376698
5513390111 | 0.3581 | 0.4376698
5513390115 | 0.3581 | 0.4376698
5513390191 | 0.3581 | 0.4376698
5513410020 | 0.3581 | 0.4376698
5513410040 | 0.3581 | 0.4376698
5513410060 | 0.3581 | 0.4376698
5513410090 | 0.3581 | 0.4376698
5513491000 | 0.3581 | 0.4376698
5513492020 | 0.3581 | 0.4376698
5513492040 | 0.3581 | 0.4376698
5513492090 | 0.3581 | 0.4376698
5513499010 | 0.3581 | 0.4376698
5513499020 | 0.3581 | 0.4376698
5513499030 | 0.3581 | 0.4376698
5513499040 | 0.3581 | 0.4376698
5513499050 | 0.3581 | 0.4376698
5513499060 | 0.3581 | 0.4376698
5513499090 | 0.3581 | 0.4376698
5514110020 | 0.4341 | 0.5305570
5514110030 | 0.4341 | 0.5305570
5514110050 | 0.4341 | 0.5305570
5514110090 | 0.4341 | 0.5305570
5514120020 | 0.4341 | 0.5305570
5514120040 | 0.4341 | 0.5305570
5514191020 | 0.4341 | 0.5305570
5514191040 | 0.4341 | 0.5305570
5514191090 | 0.4341 | 0.5305570
5514199010 | 0.4341 | 0.5305570
5514199020 | 0.4341 | 0.5305570
5514199030 | 0.4341 | 0.5305570
5514199040 | 0.4341 | 0.5305570
5514199090 | 0.4341 | 0.5305570
5514210020 | 0.4341 | 0.5305570
5514210030 | 0.4341 | 0.5305570
5514210050 | 0.4341 | 0.5305570
5514210090 | 0.4341 | 0.5305570
5514220020 | 0.4341 | 0.5305570
5514220040 | 0.4341 | 0.5305570
5514230020 | 0.4341 | 0.5305570
5514230040 | 0.4341 | 0.5305570
5514230090 | 0.4341 | 0.5305570
5514290010 | 0.4341 | 0.5305570
5514290020 | 0.4341 | 0.5305570
5514290030 | 0.4341 | 0.5305570
5514290040 | 0.4341 | 0.5305570
5514290090 | 0.4341 | 0.5305570
5514303100 | 0.4341 | 0.5305570
5514303210 | 0.4341 | 0.5305570
5514303215 | 0.4341 | 0.5305570
5514303280 | 0.4341 | 0.5305570
5514303310 | 0.4341 | 0.5305570
5514303390 | 0.4341 | 0.5305570
5514303910 | 0.4341 | 0.5305570
5514303920 | 0.4341 | 0.5305570
5514303990 | 0.4341 | 0.5305570
5514410020 | 0.4341 | 0.5305570
5514410030 | 0.4341 | 0.5305570
5514410050 | 0.4341 | 0.5305570
5514410090 | 0.4341 | 0.5305570
5514420020 | 0.4341 | 0.5305570
5514420040 | 0.4341 | 0.5305570
5514430020 | 0.4341 | 0.5305570
5514430040 | 0.4341 | 0.5305570
5514430090 | 0.4341 | 0.5305570
5514490010 | 0.4341 | 0.5305570
5514490020 | 0.4341 | 0.5305570
5514490030 | 0.4341 | 0.5305570
5514490040 | 0.4341 | 0.5305570
5514490090 | 0.4341 | 0.5305570
5515110005 | 0.1085 | 0.1326087
5515110010 | 0.1085 | 0.1326087
5515110015 | 0.1085 | 0.1326087
5515110020 | 0.1085 | 0.1326087
5515110025 | 0.1085 | 0.1326087
5515110030 | 0.1085 | 0.1326087
5515110035 | 0.1085 | 0.1326087
5515110040 | 0.1085 | 0.1326087
5515110045 | 0.1085 | 0.1326087
5515110090 | 0.1085 | 0.1326087
5515120010 | 0.1085 | 0.1326087
5515120022 | 0.1085 | 0.1326087
5515120027 | 0.1085 | 0.1326087
5515120030 | 0.1085 | 0.1326087
5515120040 | 0.1085 | 0.1326087
5515120090 | 0.1085 | 0.1326087
5515190005 | 0.1085 | 0.1326087
5515190010 | 0.1085 | 0.1326087
5515190015 | 0.1085 | 0.1326087
5515190020 | 0.1085 | 0.1326087
5515190025 | 0.1085 | 0.1326087
5515190030 | 0.1085 | 0.1326087
5515190035 | 0.1085 | 0.1326087
5515190040 | 0.1085 | 0.1326087
5515190045 | 0.1085 | 0.1326087
5515190090 | 0.1085 | 0.1326087
5515290005 | 0.1085 | 0.1326087
5515290010 | 0.1085 | 0.1326087
5515290015 | 0.1085 | 0.1326087
5515290020 | 0.1085 | 0.1326087
5515290025 | 0.1085 | 0.1326087
5515290030 | 0.1085 | 0.1326087
5515290035 | 0.1085 | 0.1326087
5515290040 | 0.1085 | 0.1326087
5515290045 | 0.1085 | 0.1326087
5515290090 | 0.1085 | 0.1326087
5515999005 | 0.1085 | 0.1326087
5515999010 | 0.1085 | 0.1326087
5515999015 | 0.1085 | 0.1326087
5515999020 | 0.1085 | 0.1326087
5515999025 | 0.1085 | 0.1326087
5515999030 | 0.1085 | 0.1326087
5515999035 | 0.1085 | 0.1326087
5515999040 | 0.1085 | 0.1326087
5515999045 | 0.1085 | 0.1326087
5515999090 | 0.1085 | 0.1326087
5516210010 | 0.1085 | 0.1326087
5516210020 | 0.1085 | 0.1326087
5516210030 | 0.1085 | 0.1326087
5516210040 | 0.1085 | 0.1326087
5516210090 | 0.1085 | 0.1326087
5516220010 | 0.1085 | 0.1326087
5516220020 | 0.1085 | 0.1326087
5516220030 | 0.1085 | 0.1326087
5516220040 | 0.1085 | 0.1326087
5516220090 | 0.1085 | 0.1326087
5516230010 | 0.1085 | 0.1326087
5516230020 | 0.1085 | 0.1326087
5516230030 | 0.1085 | 0.1326087
5516230040 | 0.1085 | 0.1326087
5516230090 | 0.1085 | 0.1326087
5516240010 | 0.1085 | 0.1326087
5516240020 | 0.1085 | 0.1326087
5516240030 | 0.1085 | 0.1326087
5516240040 | 0.1085 | 0.1326087
5516240085 | 0.1085 | 0.1326087
5516240095 | 0.1085 | 0.1326087
5516410010 | 0.3798 | 0.4641916
5516410022 | 0.3798 | 0.4641916
5516410027 | 0.3798 | 0.4641916
5516410030 | 0.3798 | 0.4641916
5516410040 | 0.3798 | 0.4641916
5516410050 | 0.3798 | 0.4641916
5516410060 | 0.3798 | 0.4641916
5516410070 | 0.3798 | 0.4641916
5516410090 | 0.3798 | 0.4641916
5516420010 | 0.3798 | 0.4641916
5516420022 | 0.3798 | 0.4641916
5516420027 | 0.3798 | 0.4641916
5516420030 | 0.3798 | 0.4641916
5516420040 | 0.3798 | 0.4641916
5516420050 | 0.3798 | 0.4641916
5516420060 | 0.3798 | 0.4641916
5516420070 | 0.3798 | 0.4641916
5516420090 | 0.3798 | 0.4641916
5516430010 | 0.217 | 0.2652174
5516430015 | 0.3798 | 0.4641916
5516430020 | 0.3798 | 0.4641916
5516430035 | 0.3798 | 0.4641916
5516430080 | 0.3798 | 0.4641916
5516440010 | 0.3798 | 0.4641916
5516440022 | 0.3798 | 0.4641916
5516440027 | 0.3798 | 0.4641916
5516440030 | 0.3798 | 0.4641916
5516440040 | 0.3798 | 0.4641916
5516440050 | 0.3798 | 0.4641916
5516440060 | 0.3798 | 0.4641916
5516440070 | 0.3798 | 0.4641916
5516440090 | 0.3798 | 0.4641916
5516910010 | 0.0543 | 0.0663655
5516910020 | 0.0543 | 0.0663655
5516910030 | 0.0543 | 0.0663655
5516910040 | 0.0543 | 0.0663655
5516910050 | 0.0543 | 0.0663655
5516910060 | 0.0543 | 0.0663655
5516910070 | 0.0543 | 0.0663655
5516910090 | 0.0543 | 0.0663655
5516920010 | 0.0543 | 0.0663655
5516920020 | 0.0543 | 0.0663655
5516920030 | 0.0543 | 0.0663655
5516920040 | 0.0543 | 0.0663655
5516920050 | 0.0543 | 0.0663655
5516920060 | 0.0543 | 0.0663655
5516920070 | 0.0543 | 0.0663655
5516920090 | 0.0543 | 0.0663655
5516930010 | 0.0543 | 0.0663655
5516930020 | 0.0543 | 0.0663655
5516930090 | 0.0543 | 0.0663655
5516940010 | 0.0543 | 0.0663655
5516940020 | 0.0543 | 0.0663655
5516940030 | 0.0543 | 0.0663655
5516940040 | 0.0543 | 0.0663655
5516940050 | 0.0543 | 0.0663655
5516940060 | 0.0543 | 0.0663655
5516940070 | 0.0543 | 0.0663655
5516940090 | 0.0543 | 0.0663655
5601210010 | 0.9767 | 1.1937227
5601210090 | 0.9767 | 1.1937227
5601220010 | 0.9767 | 1.1937227
5601220090 | 0.9767 | 1.1937227
5601300000 | 0.3256 | 0.3979483
5602101000 | 0.0543 | 0.0663655
5602109090 | 0.4341 | 0.5305570
5602290000 | 0.4341 | 0.5305570
5602909000 | 0.3256 | 0.3979483
5603143000 | 0.2713 | 0.3315829
5603910010 | 0.0217 | 0.0265217
5603910090 | 0.0651 | 0.0795652
5603920010 | 0.0217 | 0.0265217
5603920090 | 0.0651 | 0.0795652
5603930010 | 0.0217 | 0.0265217
5603930090 | 0.0651 | 0.0795652
5603941090 | 0.3256 | 0.3979483
5603943000 | 0.1628 | 0.1989742
5603949010 | 0.0326 | 0.0398437
5604100000 | 0.2632 | 0.3216830
5604909000 | 0.2105 | 0.2572731
5605009000 | 0.1579 | 0.1929854
5606000010 | 0.1263 | 0.1543639
5606000090 | 0.1263 | 0.1543639
5607502500 | 0.1684 | 0.2058185
5607909000 | 0.8421 | 1.0292146
5608901000 | 1.0526 | 1.2864877
5608902300 | 0.6316 | 0.7719415
5608902700 | 0.6316 | 0.7719415
5608903000 | 0.3158 | 0.3859708
5609001000 | 0.8421 | 1.0292146
5609004000 | 0.2105 | 0.2572731
5701101300 | 0.0526 | 0.0642877
5701101600 | 0.0526 | 0.0642877
5701104000 | 0.0526 | 0.0642877
5701109000 | 0.0526 | 0.0642877
5701901010 | 1 | 1.2222000
5701901020 | 1 | 1.2222000
5701901030 | 0.0526 | 0.0642877
5701901090 | 0.0526 | 0.0642877
5701902010 | 0.9474 | 1.1579123
5701902020 | 0.9474 | 1.1579123
5701902030 | 0.0526 | 0.0642877
5701902090 | 0.0526 | 0.0642877
5702101000 | 0.0447 | 0.0546323
5702109010 | 0.0447 | 0.0546323
5702109020 | 0.85 | 1.0388700
5702109030 | 0.0447 | 0.0546323
5702109090 | 0.0447 | 0.0546323
5702201000 | 0.0447 | 0.0546323
5702311000 | 0.0447 | 0.0546323
5702312000 | 0.0895 | 0.1093869
5702322000 | 0.0895 | 0.1093869
5702391000 | 0.0895 | 0.1093869
5702392010 | 0.8053 | 0.9842377
5702392090 | 0.0447 | 0.0546323
5702411000 | 0.0447 | 0.0546323
5702412000 | 0.0447 | 0.0546323
5702421000 | 0.0895 | 0.1093869
5702422020 | 0.0895 | 0.1093869
5702422080 | 0.0895 | 0.1093869
5702491020 | 0.8947 | 1.0935023
5702491080 | 0.8947 | 1.0935023
5702492000 | 0.0895 | 0.1093869
5702502000 | 0.0895 | 0.1093869
5702504000 | 0.0447 | 0.0546323
5702505200 | 0.0895 | 0.1093869
5702505600 | 0.85 | 1.0388700
5702912000 | 0.0447 | 0.0546323
5702913000 | 0.0447 | 0.0546323
5702914000 | 0.0447 | 0.0546323
5702921000 | 0.0447 | 0.0546323
5702929000 | 0.0447 | 0.0546323
5702990500 | 0.8947 | 1.0935023
5702991500 | 0.8947 | 1.0935023
5703201000 | 0.0452 | 0.0552434
5703202010 | 0.0452 | 0.0552434
5703302000 | 0.0452 | 0.0552434
5703900000 | 0.3615 | 0.4418253
5705001000 | 0.0452 | 0.0552434
5705002005 | 0.0452 | 0.0552434
5705002015 | 0.0452 | 0.0552434
5705002020 | 0.7682 | 0.9388940
5705002030 | 0.0452 | 0.0552434
5705002090 | 0.1808 | 0.2209738
5801210000 | 0.9767 | 1.1937227
5801221000 | 0.9767 | 1.1937227
5801229000 | 0.9767 | 1.1937227
5801230000 | 0.9767 | 1.1937227
5801260010 | 0.7596 | 0.9283831
5801260020 | 0.7596 | 0.9283831
5801271000 | 0.9767 | 1.1937227
5801275010 | 1.0852 | 1.3263314
5801275020 | 0.9767 | 1.1937227
5801310000 | 0.217 | 0.2652174
5801320000 | 0.217 | 0.2652174
5801330000 | 0.217 | 0.2652174
5801360010 | 0.217 | 0.2652174
5801360020 | 0.217 | 0.2652174
5802110000 | 1.0309 | 1.2599660
5802190000 | 1.0309 | 1.2599660
5802200020 | 0.1085 | 0.1326087
5802200090 | 0.3256 | 0.3979483
5802300030 | 0.4341 | 0.5305570
5802300090 | 0.1085 | 0.1326087
5803001000 | 1.0852 | 1.3263314
5803002000 | 0.8681 | 1.0609918
5803003000 | 0.8681 | 1.0609918
5803005000 | 0.3256 | 0.3979483
5804101000 | 0.4341 | 0.5305570
5804109090 | 0.2193 | 0.2680285
5804291000 | 0.8772 | 1.0721138
5804300020 | 0.3256 | 0.3979483
5805001000 | 0.1085 | 0.1326087
5805003000 | 1.0852 | 1.3263314
5806101000 | 0.8681 | 1.0609918
5806103090 | 0.217 | 0.2652174
5806200010 | 0.2577 | 0.3149609
5806200090 | 0.2577 | 0.3149609
5806310000 | 0.8681 | 1.0609918
5806393080 | 0.217 | 0.2652174
5806400000 | 0.0814 | 0.0994871
5807100510 | 0.8681 | 1.0609918
5807102010 | 0.8681 | 1.0609918
5807900510 | 0.8681 | 1.0609918
5807902010 | 0.8681 | 1.0609918
5808104000 | 0.217 | 0.2652174
5808107000 | 0.217 | 0.2652174
5808900010 | 0.4341 | 0.5305570
5810100000 | 0.3256 | 0.3979483
5810910010 | 0.7596 | 0.9283831
5810910020 | 0.7596 | 0.9283831
5810921000 | 0.217 | 0.2652174
5810929030 | 0.217 | 0.2652174
5810929050 | 0.217 | 0.2652174
5810929080 | 0.217 | 0.2652174
5811002000 | 0.8681 | 1.0609918
5901102000 | 0.5643 | 0.6896875
5901904000 | 0.8139 | 0.9947486
5903101000 | 0.4341 | 0.5305570
5903103000 | 0.1085 | 0.1326087
5903201000 | 0.4341 | 0.5305570
5903203090 | 0.1085 | 0.1326087
5903901000 | 0.4341 | 0.5305570
5903903090 | 0.1085 | 0.1326087
5904901000 | 0.0326 | 0.0398437
5905001000 | 0.1085 | 0.1326087
5905009000 | 0.1085 | 0.1326087
5906100000 | 0.4341 | 0.5305570
5906911000 | 0.4341 | 0.5305570
5906913000 | 0.1085 | 0.1326087
5906991000 | 0.4341 | 0.5305570
5906993000 | 0.1085 | 0.1326087
5907002500 | 0.3798 | 0.4641916
5907003500 | 0.3798 | 0.4641916
5907008090 | 0.3798 | 0.4641916
5908000000 | 0.7813 | 0.9549049
5909001000 | 0.6837 | 0.8356181
5909002000 | 0.4883 | 0.5968003
5910001010 | 0.3798 | 0.4641916
5910001020 | 0.3798 | 0.4641916
5910001030 | 0.3798 | 0.4641916
5910001060 | 0.3798 | 0.4641916
5910001070 | 0.3798 | 0.4641916
5910001090 | 0.6837 | 0.8356181
5910009000 | 0.5697 | 0.6962873
5911101000 | 0.1736 | 0.2121739
5911102000 | 0.0434 | 0.0530435
5911201000 | 0.4341 | 0.5305570
5911310010 | 0.4341 | 0.5305570
5911310020 | 0.4341 | 0.5305570
5911310030 | 0.4341 | 0.5305570
5911310080 | 0.4341 | 0.5305570
5911320010 | 0.4341 | 0.5305570
5911320020 | 0.4341 | 0.5305570
5911320030 | 0.4341 | 0.5305570
5911320080 | 0.4341 | 0.5305570
5911400000 | 0.5426 | 0.6631657
5911900040 | 0.3158 | 0.3859708
5911900080 | 0.2105 | 0.2572731
6001106000 | 0.1096 | 0.1339531
6001210000 | 0.9868 | 1.2060670
6001220000 | 0.1096 | 0.1339531
6001290000 | 0.1096 | 0.1339531
6001910010 | 0.8772 | 1.0721138
6001910020 | 0.8772 | 1.0721138
6001920010 | 0.0548 | 0.0669766
6001920020 | 0.0548 | 0.0669766
6001920030 | 0.0548 | 0.0669766
6001920040 | 0.0548 | 0.0669766
6001999000 | 0.1096 | 0.1339531
6002404000 | 0.7401 | 0.9045502
6002408020 | 0.1974 | 0.2412623
6002408080 | 0.1974 | 0.2412623
6002904000 | 0.7895 | 0.9649269
6002908020 | 0.1974 | 0.2412623
6002908080 | 0.1974 | 0.2412623
6003201000 | 0.8772 | 1.0721138
6003203000 | 0.8772 | 1.0721138
6003301000 | 0.1096 | 0.1339531
6003306000 | 0.1096 | 0.1339531
6003401000 | 0.1096 | 0.1339531
6003406000 | 0.1096 | 0.1339531
6003901000 | 0.1096 | 0.1339531
6003909000 | 0.1096 | 0.1339531
6004100010 | 0.2961 | 0.3618934
6004100025 | 0.2961 | 0.3618934
6004100085 | 0.2961 | 0.3618934
6004902010 | 0.2961 | 0.3618934
6004902025 | 0.2961 | 0.3618934
6004902085 | 0.2961 | 0.3618934
6004909000 | 0.2961 | 0.3618934
6005210000 | 0.7127 | 0.8710619
6005220000 | 0.7127 | 0.8710619
6005230000 | 0.7127 | 0.8710619
6005240000 | 0.7127 | 0.8710619
6005360010 | 0.1096 | 0.1339531
6005360080 | 0.1096 | 0.1339531
6005370010 | 0.1096 | 0.1339531
6005370080 | 0.1096 | 0.1339531
6005380010 | 0.1096 | 0.1339531
6005380080 | 0.1096 | 0.1339531
6005390010 | 0.1096 | 0.1339531
6005390080 | 0.1096 | 0.1339531
6005410010 | 0.1096 | 0.1339531
6005410080 | 0.1096 | 0.1339531
6005420010 | 0.1096 | 0.1339531
6005420080 | 0.1096 | 0.1339531
6005430010 | 0.1096 | 0.1339531
6005430080 | 0.1096 | 0.1339531
6005440010 | 0.1096 | 0.1339531
6005440080 | 0.1096 | 0.1339531
6005909000 | 0.1096 | 0.1339531
6006211000 | 1.0965 | 1.3401423
6006219020 | 0.7675 | 0.9380385
6006219080 | 0.7675 | 0.9380385
6006221000 | 1.0965 | 1.3401423
6006229020 | 0.7675 | 0.9380385
6006229080 | 0.7675 | 0.9380385
6006231000 | 1.0965 | 1.3401423
6006239020 | 0.7675 | 0.9380385
6006239080 | 0.7675 | 0.9380385
6006241000 | 1.0965 | 1.3401423
6006249020 | 0.7675 | 0.9380385
6006249080 | 0.7675 | 0.9380385
6006310020 | 0.3289 | 0.4019816
6006310040 | 0.3289 | 0.4019816
6006310060 | 0.3289 | 0.4019816
6006310080 | 0.3289 | 0.4019816
6006320020 | 0.3289 | 0.4019816
6006320040 | 0.3289 | 0.4019816
6006320060 | 0.3289 | 0.4019816
6006320080 | 0.3289 | 0.4019816
6006330020 | 0.3289 | 0.4019816
6006330040 | 0.3289 | 0.4019816
6006330060 | 0.3289 | 0.4019816
6006330080 | 0.3289 | 0.4019816
6006340020 | 0.3289 | 0.4019816
6006340040 | 0.3289 | 0.4019816
6006340060 | 0.3289 | 0.4019816
6006340080 | 0.3289 | 0.4019816
6006410025 | 0.3289 | 0.4019816
6006410085 | 0.3289 | 0.4019816
6006420025 | 0.3289 | 0.4019816
6006420085 | 0.3289 | 0.4019816
6006430025 | 0.3289 | 0.4019816
6006430085 | 0.3289 | 0.4019816
6006440025 | 0.3289 | 0.4019816
6006440085 | 0.3289 | 0.4019816
6006909000 | 0.1096 | 0.1339531
6101200010 | 1.02 | 1.2466440
6101200020 | 1.02 | 1.2466440
6101301000 | 0.2072 | 0.2532398
6101900500 | 0.1912 | 0.2336846
6101909010 | 0.5737 | 0.7011761
6101909030 | 0.51 | 0.6233220
6101909060 | 0.255 | 0.3116610
6102100000 | 0.255 | 0.3116610
6102200010 | 0.9562 | 1.1686676
6102200020 | 0.9562 | 1.1686676
6102300500 | 0.1785 | 0.2181627
6102909005 | 0.5737 | 0.7011761
6102909015 | 0.4462 | 0.5453456
6102909030 | 0.255 | 0.3116610
6103101000 | 0.0637 | 0.0778541
6103104000 | 0.1218 | 0.1488640
6103105000 | 0.1218 | 0.1488640
6103106010 | 0.8528 | 1.0422922
6103106015 | 0.8528 | 1.0422922
6103106030 | 0.8528 | 1.0422922
6103109010 | 0.5482 | 0.6700100
6103109020 | 0.5482 | 0.6700100
6103109030 | 0.5482 | 0.6700100
6103109040 | 0.1218 | 0.1488640
6103109050 | 0.1218 | 0.1488640
6103109080 | 0.1827 | 0.2232959
6103320000 | 0.8722 | 1.0660028
6103398010 | 0.7476 | 0.9137167
6103398030 | 0.3738 | 0.4568584
6103398060 | 0.2492 | 0.3045722
6103411010 | 0.3576 | 0.4370587
6103411020 | 0.3576 | 0.4370587
6103412000 | 0.3576 | 0.4370587
6103421020 | 0.8343 | 1.0196815
6103421035 | 0.8343 | 1.0196815
6103421040 | 0.8343 | 1.0196815
6103421050 | 0.8343 | 1.0196815
6103421065 | 0.8343 | 1.0196815
6103421070 | 0.8343 | 1.0196815
6103422010 | 0.8343 | 1.0196815
6103422015 | 0.8343 | 1.0196815
6103422025 | 0.8343 | 1.0196815
6103431520 | 0.2384 | 0.2913725
6103431535 | 0.2384 | 0.2913725
6103431540 | 0.2384 | 0.2913725
6103431550 | 0.2384 | 0.2913725
6103431565 | 0.2384 | 0.2913725
6103431570 | 0.2384 | 0.2913725
6103432020 | 0.2384 | 0.2913725
6103432025 | 0.2384 | 0.2913725
6103491020 | 0.2437 | 0.2978501
6103491060 | 0.2437 | 0.2978501
6103492000 | 0.2437 | 0.2978501
6103498010 | 0.5482 | 0.6700100
6103498014 | 0.3655 | 0.4467141
6103498024 | 0.2437 | 0.2978501
6103498026 | 0.2437 | 0.2978501
6103498034 | 0.5482 | 0.6700100
6103498038 | 0.3655 | 0.4467141
6103498060 | 0.2437 | 0.2978501
6104196010 | 0.8722 | 1.0660028
6104196020 | 0.8722 | 1.0660028
6104196030 | 0.8722 | 1.0660028
6104196040 | 0.8722 | 1.0660028
6104198010 | 0.5607 | 0.6852875
6104198020 | 0.5607 | 0.6852875
6104198030 | 0.5607 | 0.6852875
6104198040 | 0.5607 | 0.6852875
6104198060 | 0.3738 | 0.4568584
6104198090 | 0.2492 | 0.3045722
6104320000 | 0.8722 | 1.0660028
6104392010 | 0.5607 | 0.6852875
6104392030 | 0.3738 | 0.4568584
6104392090 | 0.2492 | 0.3045722
6104420010 | 0.8528 | 1.0422922
6104420020 | 0.8528 | 1.0422922
6104499010 | 0.5482 | 0.6700100
6104499030 | 0.3655 | 0.4467141
6104499060 | 0.2437 | 0.2978501
6104520010 | 0.8822 | 1.0782248
6104520020 | 0.8822 | 1.0782248
6104598010 | 0.5672 | 0.6932318
6104598030 | 0.3781 | 0.4621138
6104598090 | 0.2521 | 0.3081166
6104610010 | 0.2384 | 0.2913725
6104610020 | 0.2384 | 0.2913725
6104610030 | 0.2384 | 0.2913725
6104621010 | 0.7509 | 0.9177500
6104621020 | 0.8343 | 1.0196815
6104621030 | 0.8343 | 1.0196815
6104622006 | 0.7151 | 0.8739952
6104622011 | 0.8343 | 1.0196815
6104622016 | 0.7151 | 0.8739952
6104622021 | 0.8343 | 1.0196815
6104622026 | 0.7151 | 0.8739952
6104622028 | 0.8343 | 1.0196815
6104622030 | 0.8343 | 1.0196815
6104622050 | 0.8343 | 1.0196815
6104622060 | 0.8343 | 1.0196815
6104631020 | 0.2384 | 0.2913725
6104631030 | 0.2384 | 0.2913725
6104632006 | 0.8343 | 1.0196815
6104632011 | 0.8343 | 1.0196815
6104632016 | 0.7151 | 0.8739952
6104632021 | 0.8343 | 1.0196815
6104632026 | 0.3576 | 0.4370587
6104632028 | 0.3576 | 0.4370587
6104632030 | 0.3576 | 0.4370587
6104632050 | 0.7151 | 0.8739952
6104632060 | 0.3576 | 0.4370587
6104691000 | 0.3655 | 0.4467141
6104692030 | 0.3655 | 0.4467141
6104692060 | 0.3655 | 0.4467141
6104698010 | 0.5482 | 0.6700100
6104698014 | 0.3655 | 0.4467141
6104698020 | 0.2437 | 0.2978501
6104698022 | 0.5482 | 0.6700100
6104698026 | 0.3655 | 0.4467141
6104698038 | 0.2437 | 0.2978501
6104698040 | 0.2437 | 0.2978501
6105100010 | 0.9332 | 1.1405570
6105100020 | 0.9332 | 1.1405570
6105100030 | 0.9332 | 1.1405570
6105202010 | 0.2916 | 0.3563935
6105202020 | 0.2916 | 0.3563935
6105202030 | 0.2916 | 0.3563935
6105908010 | 0.5249 | 0.6415328
6105908030 | 0.3499 | 0.4276478
6105908060 | 0.2333 | 0.2851393
6106100010 | 0.9332 | 1.1405570
6106100020 | 0.9332 | 1.1405570
6106100030 | 0.9332 | 1.1405570
6106202010 | 0.2916 | 0.3563935
6106202020 | 0.4666 | 0.5702785
6106202030 | 0.2916 | 0.3563935
6106901500 | 0.0583 | 0.0712543
6106902510 | 0.5249 | 0.6415328
6106902530 | 0.3499 | 0.4276478
6106902550 | 0.2916 | 0.3563935
6106903010 | 0.5249 | 0.6415328
6106903030 | 0.3499 | 0.4276478
6106903040 | 0.2916 | 0.3563935
6107110010 | 1.0727 | 1.3110539
6107110020 | 1.0727 | 1.3110539
6107120010 | 0.4767 | 0.5826227
6107120020 | 0.4767 | 0.5826227
6107191000 | 0.1192 | 0.1456862
6107210010 | 0.8343 | 1.0196815
6107210020 | 0.7151 | 0.8739952
6107220010 | 0.3576 | 0.4370587
6107220015 | 0.1192 | 0.1456862
6107220025 | 0.2384 | 0.2913725
6107299000 | 0.1788 | 0.2185294
6107910030 | 1.1918 | 1.4566180
6107910040 | 1.1918 | 1.4566180
6107910090 | 0.9535 | 1.1653677
6107991030 | 0.3576 | 0.4370587
6107991040 | 0.3576 | 0.4370587
6107991090 | 0.3576 | 0.4370587
6107999000 | 0.1192 | 0.1456862
6108199010 | 1.0611 | 1.2968764
6108199030 | 0.2358 | 0.2881948
6108210010 | 1.179 | 1.4409738
6108210020 | 1.179 | 1.4409738
6108299000 | 0.3537 | 0.4322921
6108310010 | 1.0611 | 1.2968764
6108310020 | 1.0611 | 1.2968764
6108320010 | 0.2358 | 0.2881948
6108320015 | 0.2358 | 0.2881948
6108320025 | 0.2358 | 0.2881948
6108398000 | 0.3537 | 0.4322921
6108910005 | 1.179 | 1.4409738
6108910015 | 1.179 | 1.4409738
6108910025 | 1.179 | 1.4409738
6108910030 | 1.179 | 1.4409738
6108910040 | 1.179 | 1.4409738
6108920005 | 0.2358 | 0.2881948
6108920015 | 0.2358 | 0.2881948
6108920025 | 0.2358 | 0.2881948
6108920030 | 0.2358 | 0.2881948
6108920040 | 0.2358 | 0.2881948
6108999000 | 0.3537 | 0.4322921
6109100004 | 1.0022 | 1.2248888
6109100007 | 1.0022 | 1.2248888
6109100011 | 1.0022 | 1.2248888
6109100012 | 1.0022 | 1.2248888
6109100014 | 1.0022 | 1.2248888
6109100018 | 1.0022 | 1.2248888
6109100023 | 1.0022 | 1.2248888
6109100027 | 1.0022 | 1.2248888
6109100037 | 1.0022 | 1.2248888
6109100040 | 1.0022 | 1.2248888
6109100045 | 1.0022 | 1.2248888
6109100060 | 1.0022 | 1.2248888
6109100065 | 1.0022 | 1.2248888
6109100070 | 1.0022 | 1.2248888
6109901007 | 0.2948 | 0.3603046
6109901009 | 0.2948 | 0.3603046
6109901013 | 0.2948 | 0.3603046
6109901025 | 0.2948 | 0.3603046
6109901047 | 0.2948 | 0.3603046
6109901049 | 0.2948 | 0.3603046
6109901050 | 0.2948 | 0.3603046
6109901060 | 0.2948 | 0.3603046
6109901065 | 0.2948 | 0.3603046
6109901070 | 0.2948 | 0.3603046
6109901075 | 0.2948 | 0.3603046
6109901090 | 0.2948 | 0.3603046
6109908010 | 0.3499 | 0.4276478
6109908030 | 0.2333 | 0.2851393
6110201010 | 0.7476 | 0.9137167
6110201020 | 0.7476 | 0.9137167
6110201022 | 0.7476 | 0.9137167
6110201024 | 0.7476 | 0.9137167
6110201026 | 0.7476 | 0.9137167
6110201029 | 0.7476 | 0.9137167
6110201031 | 0.7476 | 0.9137167
6110201033 | 0.7476 | 0.9137167
6110202005 | 1.1214 | 1.3705751
6110202010 | 1.1214 | 1.3705751
6110202015 | 1.1214 | 1.3705751
6110202020 | 1.1214 | 1.3705751
6110202025 | 1.1214 | 1.3705751
6110202030 | 1.1214 | 1.3705751
6110202035 | 1.1214 | 1.3705751
6110202041 | 1.0965 | 1.3401423
6110202044 | 1.0965 | 1.3401423
6110202046 | 1.0965 | 1.3401423
6110202049 | 1.0965 | 1.3401423
6110202067 | 1.0965 | 1.3401423
6110202069 | 1.0965 | 1.3401423
6110202077 | 1.0965 | 1.3401423
6110202079 | 1.0965 | 1.3401423
6110909010 | 0.5607 | 0.6852875
6110909012 | 0.1246 | 0.1522861
6110909014 | 0.3738 | 0.4568584
6110909026 | 0.5607 | 0.6852875
6110909028 | 0.1869 | 0.2284292
6110909030 | 0.3738 | 0.4568584
6110909044 | 0.5607 | 0.6852875
6110909046 | 0.5607 | 0.6852875
6110909052 | 0.3738 | 0.4568584
6110909054 | 0.3738 | 0.4568584
6110909064 | 0.2492 | 0.3045722
6110909066 | 0.2492 | 0.3045722
6110909067 | 0.5607 | 0.6852875
6110909069 | 0.5607 | 0.6852875
6110909071 | 0.5607 | 0.6852875
6110909073 | 0.5607 | 0.6852875
6110909079 | 0.3738 | 0.4568584
6110909080 | 0.3738 | 0.4568584
6110909081 | 0.3738 | 0.4568584
6110909082 | 0.3738 | 0.4568584
6110909088 | 0.2492 | 0.3045722
6110909090 | 0.2492 | 0.3045722
6111201000 | 1.1918 | 1.4566180
6111202000 | 1.1918 | 1.4566180
6111203000 | 0.9535 | 1.1653677
6111204000 | 0.9535 | 1.1653677
6111205000 | 0.9535 | 1.1653677
6111206010 | 0.9535 | 1.1653677
6111206020 | 0.9535 | 1.1653677
6111206030 | 0.9535 | 1.1653677
6111206050 | 0.9535 | 1.1653677
6111206070 | 0.9535 | 1.1653677
6111301000 | 0.2384 | 0.2913725
6111302000 | 0.2384 | 0.2913725
6111303000 | 0.2384 | 0.2913725
6111304000 | 0.2384 | 0.2913725
6111305010 | 0.2384 | 0.2913725
6111305015 | 0.2384 | 0.2913725
6111305020 | 0.2384 | 0.2913725
6111305030 | 0.2384 | 0.2913725
6111305050 | 0.2384 | 0.2913725
6111305070 | 0.2384 | 0.2913725
6111901000 | 0.2384 | 0.2913725
6111902000 | 0.2384 | 0.2913725
6111903000 | 0.2384 | 0.2913725
6111904000 | 0.2384 | 0.2913725
6111905010 | 0.2384 | 0.2913725
6111905020 | 0.2384 | 0.2913725
6111905030 | 0.2384 | 0.2913725
6111905050 | 0.2384 | 0.2913725
6111905070 | 0.2384 | 0.2913725
6112110010 | 0.9535 | 1.1653677
6112110020 | 0.9535 | 1.1653677
6112110030 | 0.9535 | 1.1653677
6112110040 | 0.9535 | 1.1653677
6112110050 | 0.9535 | 1.1653677
6112110060 | 0.9535 | 1.1653677
6112120010 | 0.2384 | 0.2913725
6112120020 | 0.2384 | 0.2913725
6112120030 | 0.2384 | 0.2913725
6112120040 | 0.2384 | 0.2913725
6112120050 | 0.2384 | 0.2913725
6112120060 | 0.2384 | 0.2913725
6112191010 | 0.2492 | 0.3045722
6112191020 | 0.2492 | 0.3045722
6112191030 | 0.2492 | 0.3045722
6112191040 | 0.2492 | 0.3045722
6112191050 | 0.2492 | 0.3045722
6112191060 | 0.2492 | 0.3045722
6112201060 | 0.2492 | 0.3045722
6112201070 | 0.2492 | 0.3045722
6112201080 | 0.2492 | 0.3045722
6112201090 | 0.2492 | 0.3045722
6112202010 | 0.8722 | 1.0660028
6112202020 | 0.3738 | 0.4568584
6112202030 | 0.2492 | 0.3045722
6112310010 | 0.1192 | 0.1456862
6112310020 | 0.1192 | 0.1456862
6112390010 | 1.0727 | 1.3110539
6112410010 | 0.1192 | 0.1456862
6112410020 | 0.1192 | 0.1456862
6112410030 | 0.1192 | 0.1456862
6112410040 | 0.1192 | 0.1456862
6112490010 | 0.8939 | 1.0925246
6113001005 | 0.1246 | 0.1522861
6113001010 | 0.1246 | 0.1522861
6113001012 | 0.1246 | 0.1522861
6113009015 | 0.3489 | 0.4264256
6113009020 | 0.3489 | 0.4264256
6113009038 | 0.3489 | 0.4264256
6113009042 | 0.3489 | 0.4264256
6113009055 | 0.3489 | 0.4264256
6113009060 | 0.3489 | 0.4264256
6113009074 | 0.3489 | 0.4264256
6113009082 | 0.3489 | 0.4264256
6114200005 | 0.9747 | 1.1912783
6114200010 | 0.9747 | 1.1912783
6114200015 | 0.8528 | 1.0422922
6114200020 | 0.8528 | 1.0422922
6114200035 | 0.8528 | 1.0422922
6114200040 | 0.8528 | 1.0422922
6114200042 | 0.3655 | 0.4467141
6114200044 | 0.8528 | 1.0422922
6114200046 | 0.8528 | 1.0422922
6114200048 | 0.8528 | 1.0422922
6114200052 | 0.8528 | 1.0422922
6114200055 | 0.8528 | 1.0422922
6114200060 | 0.8528 | 1.0422922
6114301010 | 0.2437 | 0.2978501
6114301020 | 0.2437 | 0.2978501
6114302060 | 0.1218 | 0.1488640
6114303014 | 0.2437 | 0.2978501
6114303020 | 0.2437 | 0.2978501
6114303030 | 0.2437 | 0.2978501
6114303042 | 0.2437 | 0.2978501
6114303044 | 0.2437 | 0.2978501
6114303052 | 0.2437 | 0.2978501
6114303054 | 0.2437 | 0.2978501
6114303060 | 0.2437 | 0.2978501
6114303070 | 0.2437 | 0.2978501
6114909045 | 0.5482 | 0.6700100
6114909055 | 0.3655 | 0.4467141
6114909070 | 0.3655 | 0.4467141
6115100500 | 0.4386 | 0.5360569
6115101510 | 1.0965 | 1.3401423
6115103000 | 0.9868 | 1.2060670
6115106000 | 0.1096 | 0.1339531
6115298010 | 1.0965 | 1.3401423
6115309030 | 0.7675 | 0.9380385
6115956000 | 0.9868 | 1.2060670
6115959000 | 0.9868 | 1.2060670
6115966020 | 0.2193 | 0.2680285
6115991420 | 0.2193 | 0.2680285
6115991920 | 0.2193 | 0.2680285
6115999000 | 0.1096 | 0.1339531
6116101300 | 0.3463 | 0.4232479
6116101720 | 0.8079 | 0.9874154
6116104810 | 0.4444 | 0.5431457
6116105510 | 0.6464 | 0.7900301
6116107510 | 0.6464 | 0.7900301
6116109500 | 0.1616 | 0.1975075
6116920500 | 0.8079 | 0.9874154
6116920800 | 0.8079 | 0.9874154
6116926410 | 1.0388 | 1.2696214
6116926420 | 1.0388 | 1.2696214
6116926430 | 1.1542 | 1.4106632
6116926440 | 1.0388 | 1.2696214
6116927450 | 1.0388 | 1.2696214
6116927460 | 1.1542 | 1.4106632
6116927470 | 1.0388 | 1.2696214
6116928800 | 1.0388 | 1.2696214
6116929400 | 1.0388 | 1.2696214
6116938800 | 0.1154 | 0.1410419
6116939400 | 0.1154 | 0.1410419
6116994800 | 0.1154 | 0.1410419
6116995400 | 0.1154 | 0.1410419
6116999510 | 0.4617 | 0.5642897
6116999530 | 0.3463 | 0.4232479
6117106010 | 0.9234 | 1.1285795
6117106020 | 0.2308 | 0.2820838
6117808500 | 0.9234 | 1.1285795
6117808710 | 1.1542 | 1.4106632
6117808770 | 0.1731 | 0.2115628
6117809510 | 0.9234 | 1.1285795
6117809540 | 0.3463 | 0.4232479
6117809570 | 0.1731 | 0.2115628
6117909003 | 1.1542 | 1.4106632
6117909015 | 0.2308 | 0.2820838
6117909020 | 1.1542 | 1.4106632
6117909040 | 1.1542 | 1.4106632
6117909060 | 1.1542 | 1.4106632
6117909080 | 1.1542 | 1.4106632
6201121000 | 0.8981 | 1.0976578
6201122010 | 0.8482 | 1.0366700
6201122020 | 0.8482 | 1.0366700
6201122025 | 0.9979 | 1.2196334
6201122035 | 0.9979 | 1.2196334
6201122050 | 0.6486 | 0.7927189
6201122060 | 0.6486 | 0.7927189
6201134015 | 0.1996 | 0.2439511
6201134020 | 0.1996 | 0.2439511
6201134030 | 0.2495 | 0.3049389
6201134040 | 0.2495 | 0.3049389
6201199010 | 0.5613 | 0.6860209
6201199030 | 0.3742 | 0.4573472
6201199060 | 0.3742 | 0.4573472
6201920500 | 0.8779 | 1.0729694
6201921700 | 1.0974 | 1.3412423
6201921905 | 0.9754 | 1.1921339
6201921910 | 0.9754 | 1.1921339
6201921921 | 1.2193 | 1.4902285
6201921931 | 1.2193 | 1.4902285
6201921941 | 1.2193 | 1.4902285
6201921951 | 0.9754 | 1.1921339
6201921961 | 0.9754 | 1.1921339
6201923000 | 0.8779 | 1.0729694
6201923500 | 1.0974 | 1.3412423
6201924505 | 0.9754 | 1.1921339
6201924510 | 0.9754 | 1.1921339
6201924521 | 1.2193 | 1.4902285
6201924531 | 1.2193 | 1.4902285
6201924541 | 1.2193 | 1.4902285
6201924551 | 0.9754 | 1.1921339
6201924561 | 0.9754 | 1.1921339
6201931500 | 0.2926 | 0.3576157
6201931810 | 0.2439 | 0.2980946
6201931820 | 0.2439 | 0.2980946
6201934911 | 0.2439 | 0.2980946
6201934921 | 0.2439 | 0.2980946
6201935000 | 0.2926 | 0.3576157
6201935210 | 0.2439 | 0.2980946
6201935220 | 0.2439 | 0.2980946
6201936511 | 0.2439 | 0.2980946
6201936521 | 0.2439 | 0.2980946
6201991510 | 0.5487 | 0.6706211
6201991530 | 0.3658 | 0.4470808
6201991560 | 0.2439 | 0.2980946
6201998010 | 0.5487 | 0.6706211
6201998030 | 0.3658 | 0.4470808
6201998060 | 0.2439 | 0.2980946
6202121000 | 0.8879 | 1.0851914
6202122010 | 1.0482 | 1.2811100
6202122020 | 1.0482 | 1.2811100
6202122025 | 1.2332 | 1.5072170
6202122035 | 1.2332 | 1.5072170
6202122050 | 0.8016 | 0.9797155
6202122060 | 0.8016 | 0.9797155
6202134005 | 0.2524 | 0.3084833
6202134010 | 0.2524 | 0.3084833
6202134020 | 0.3155 | 0.3856041
6202134030 | 0.3155 | 0.3856041
6202199010 | 0.5678 | 0.6939652
6202199030 | 0.3786 | 0.4627249
6202199060 | 0.2524 | 0.3084833
6202920300 | 0.9865 | 1.2057003
6202920500 | 0.9865 | 1.2057003
6202921210 | 0.9865 | 1.2057003
6202921220 | 0.9865 | 1.2057003
6202921226 | 1.2332 | 1.5072170
6202921231 | 1.2332 | 1.5072170
6202921261 | 0.9865 | 1.2057003
6202921271 | 0.9865 | 1.2057003
6202922500 | 0.9865 | 1.2057003
6202923000 | 0.9865 | 1.2057003
6202929010 | 0.9865 | 1.2057003
6202929020 | 0.9865 | 1.2057003
6202929026 | 1.2332 | 1.5072170
6202929031 | 1.2332 | 1.5072170
6202929061 | 0.9865 | 1.2057003
6202929071 | 0.9865 | 1.2057003
6202930100 | 0.296 | 0.3617712
6202930310 | 0.2466 | 0.3013945
6202930320 | 0.2466 | 0.3013945
6202930911 | 0.2466 | 0.3013945
6202930921 | 0.2466 | 0.3013945
6202931500 | 0.296 | 0.3617712
6202932510 | 0.2466 | 0.3013945
6202932520 | 0.2466 | 0.3013945
6202935511 | 0.2466 | 0.3013945
6202935521 | 0.2466 | 0.3013945
6202991511 | 0.5549 | 0.6781988
6202991531 | 0.37 | 0.4522140
6202991561 | 0.2466 | 0.3013945
6202998011 | 0.5549 | 0.6781988
6202998031 | 0.37 | 0.4522140
6202998061 | 0.2466 | 0.3013945
6203122010 | 0.1233 | 0.1506973
6203122020 | 0.1233 | 0.1506973
6203191010 | 0.9865 | 1.2057003
6203191020 | 0.9865 | 1.2057003
6203191030 | 0.9865 | 1.2057003
6203199010 | 0.5549 | 0.6781988
6203199020 | 0.5549 | 0.6781988
6203199030 | 0.5549 | 0.6781988
6203199050 | 0.37 | 0.4522140
6203199080 | 0.2466 | 0.3013945
6203221000 | 1.2332 | 1.5072170
6203321000 | 0.6782 | 0.8288960
6203322010 | 1.1715 | 1.4318073
6203322020 | 1.1715 | 1.4318073
6203322030 | 1.1715 | 1.4318073
6203322040 | 1.1715 | 1.4318073
6203322050 | 1.1715 | 1.4318073
6203332010 | 0.1233 | 0.1506973
6203332020 | 0.1233 | 0.1506973
6203392010 | 0.1233 | 0.1506973
6203392020 | 0.1233 | 0.1506973
6203399010 | 0.5549 | 0.6781988
6203399030 | 0.37 | 0.4522140
6203399060 | 0.2466 | 0.3013945
6203420300 | 1.0616 | 1.2974875
6203420505 | 0.7077 | 0.8649509
6203420510 | 0.9436 | 1.1532679
6203420525 | 0.9436 | 1.1532679
6203420550 | 0.9436 | 1.1532679
6203420590 | 0.9436 | 1.1532679
6203420703 | 1.0616 | 1.2974875
6203420706 | 1.1796 | 1.4417071
6203420711 | 1.1796 | 1.4417071
6203420716 | 0.9436 | 1.1532679
6203420721 | 1.1796 | 1.4417071
6203420726 | 1.1796 | 1.4417071
6203420731 | 1.1796 | 1.4417071
6203420736 | 1.1796 | 1.4417071
6203420741 | 0.9436 | 1.1532679
6203420746 | 0.9436 | 1.1532679
6203420751 | 0.8752 | 1.0696694
6203420756 | 0.8752 | 1.0696694
6203420761 | 0.8752 | 1.0696694
6203421700 | 1.0616 | 1.2974875
6203422505 | 0.7077 | 0.8649509
6203422510 | 0.9436 | 1.1532679
6203422525 | 0.9436 | 1.1532679
6203422550 | 0.9436 | 1.1532679
6203422590 | 0.9436 | 1.1532679
6203424503 | 1.0616 | 1.2974875
6203424506 | 1.1796 | 1.4417071
6203424511 | 1.1796 | 1.4417071
6203424516 | 0.9436 | 1.1532679
6203424521 | 1.1796 | 1.4417071
6203424526 | 1.1796 | 1.4417071
6203424531 | 1.1796 | 1.4417071
6203424536 | 1.1796 | 1.4417071
6203424541 | 0.9436 | 1.1532679
6203424546 | 0.9436 | 1.1532679
6203424551 | 0.8752 | 1.0696694
6203424556 | 0.8752 | 1.0696694
6203424561 | 0.8752 | 1.0696694
6203430100 | 0.1887 | 0.2306291
6203430300 | 0.118 | 0.1442196
6203430505 | 0.118 | 0.1442196
6203430510 | 0.2359 | 0.2883170
6203430525 | 0.2359 | 0.2883170
6203430550 | 0.2359 | 0.2883170
6203430590 | 0.2359 | 0.2883170
6203431110 | 0.059 | 0.0721098
6203431190 | 0.059 | 0.0721098
6203431310 | 0.1167 | 0.1426307
6203431315 | 0.1167 | 0.1426307
6203431320 | 0.1167 | 0.1426307
6203431330 | 0.1167 | 0.1426307
6203431335 | 0.1167 | 0.1426307
6203431340 | 0.1167 | 0.1426307
6203434500 | 0.1887 | 0.2306291
6203435500 | 0.118 | 0.1442196
6203436005 | 0.118 | 0.1442196
6203436010 | 0.2359 | 0.2883170
6203436025 | 0.2359 | 0.2883170
6203436050 | 0.2359 | 0.2883170
6203436090 | 0.2359 | 0.2883170
6203436500 | 0.4128 | 0.5045242
6203437510 | 0.059 | 0.0721098
6203437590 | 0.059 | 0.0721098
6203439010 | 0.1167 | 0.1426307
6203439015 | 0.1167 | 0.1426307
6203439020 | 0.1167 | 0.1426307
6203439030 | 0.1167 | 0.1426307
6203439035 | 0.1167 | 0.1426307
6203439040 | 0.1167 | 0.1426307
6203490105 | 0.118 | 0.1442196
6203490110 | 0.2359 | 0.2883170
6203490125 | 0.2359 | 0.2883170
6203490150 | 0.2359 | 0.2883170
6203490190 | 0.2359 | 0.2883170
6203490515 | 0.2359 | 0.2883170
6203490520 | 0.2359 | 0.2883170
6203490530 | 0.118 | 0.1442196
6203490545 | 0.118 | 0.1442196
6203490550 | 0.118 | 0.1442196
6203490560 | 0.118 | 0.1442196
6203490920 | 0.5308 | 0.6487438
6203490930 | 0.3539 | 0.4325366
6203490945 | 0.2359 | 0.2883170
6203492505 | 0.118 | 0.1442196
6203492510 | 0.2359 | 0.2883170
6203492525 | 0.2359 | 0.2883170
6203492550 | 0.2359 | 0.2883170
6203492590 | 0.2359 | 0.2883170
6203493500 | 0.4128 | 0.5045242
6203495015 | 0.2359 | 0.2883170
6203495020 | 0.2359 | 0.2883170
6203495030 | 0.118 | 0.1442196
6203495045 | 0.118 | 0.1442196
6203495050 | 0.118 | 0.1442196
6203495060 | 0.118 | 0.1442196
6203499020 | 0.5308 | 0.6487438
6203499030 | 0.3539 | 0.4325366
6203499045 | 0.2359 | 0.2883170
6204110000 | 0.0617 | 0.0754097
6204120010 | 0.9865 | 1.2057003
6204120020 | 0.9865 | 1.2057003
6204120030 | 0.9865 | 1.2057003
6204120040 | 0.9865 | 1.2057003
6204132010 | 0.1233 | 0.1506973
6204132020 | 0.1233 | 0.1506973
6204192000 | 0.1233 | 0.1506973
6204198010 | 0.5549 | 0.6781988
6204198020 | 0.5549 | 0.6781988
6204198030 | 0.5549 | 0.6781988
6204198040 | 0.5549 | 0.6781988
6204198060 | 0.3083 | 0.3768043
6204198090 | 0.2466 | 0.3013945
6204221000 | 1.2332 | 1.5072170
6204321000 | 0.6782 | 0.8288960
6204322010 | 1.1715 | 1.4318073
6204322020 | 1.1715 | 1.4318073
6204322030 | 0.9865 | 1.2057003
6204322040 | 0.9865 | 1.2057003
6204398010 | 0.5549 | 0.6781988
6204398030 | 0.3083 | 0.3768043
6204412010 | 0.0603 | 0.0736987
6204412020 | 0.0603 | 0.0736987
6204421000 | 1.2058 | 1.4737288
6204422000 | 0.6632 | 0.8105630
6204423010 | 1.2058 | 1.4737288
6204423020 | 1.2058 | 1.4737288
6204423030 | 0.9043 | 1.1052355
6204423040 | 0.9043 | 1.1052355
6204423050 | 0.9043 | 1.1052355
6204423060 | 0.9043 | 1.1052355
6204431000 | 0.4823 | 0.5894671
6204432000 | 0.0603 | 0.0736987
6204442000 | 0.4316 | 0.5275015
6204495010 | 0.5549 | 0.6781988
6204495030 | 0.2466 | 0.3013945
6204510010 | 0.0631 | 0.0771208
6204510020 | 0.0631 | 0.0771208
6204521000 | 1.2618 | 1.5421720
6204522010 | 1.1988 | 1.4651734
6204522020 | 1.1988 | 1.4651734
6204522030 | 1.1988 | 1.4651734
6204522040 | 1.1988 | 1.4651734
6204522070 | 1.0095 | 1.2338109
6204522080 | 1.0095 | 1.2338109
6204531000 | 0.4416 | 0.5397235
6204532010 | 0.0631 | 0.0771208
6204532020 | 0.0631 | 0.0771208
6204533010 | 0.2524 | 0.3084833
6204533020 | 0.2524 | 0.3084833
6204591000 | 0.4416 | 0.5397235
6204594010 | 0.5678 | 0.6939652
6204594030 | 0.2524 | 0.3084833
6204594060 | 0.2524 | 0.3084833
6204610510 | 0.059 | 0.0721098
6204610520 | 0.059 | 0.0721098
6204611510 | 0.059 | 0.0721098
6204611520 | 0.059 | 0.0721098
6204611530 | 0.059 | 0.0721098
6204611540 | 0.118 | 0.1442196
6204616010 | 0.059 | 0.0721098
6204616020 | 0.059 | 0.0721098
6204618010 | 0.059 | 0.0721098
6204618020 | 0.059 | 0.0721098
6204618030 | 0.059 | 0.0721098
6204618040 | 0.118 | 0.1442196
6204620300 | 0.8681 | 1.0609918
6204620505 | 0.7077 | 0.8649509
6204620510 | 0.9436 | 1.1532679
6204620525 | 0.9436 | 1.1532679
6204620550 | 0.9436 | 1.1532679
6204621503 | 1.0616 | 1.2974875
6204621506 | 1.1796 | 1.4417071
6204621511 | 1.1796 | 1.4417071
6204621521 | 0.9436 | 1.1532679
6204621526 | 1.1796 | 1.4417071
6204621531 | 1.1796 | 1.4417071
6204621536 | 1.1796 | 1.4417071
6204621541 | 1.1796 | 1.4417071
6204621546 | 0.9436 | 1.1532679
6204621551 | 0.9436 | 1.1532679
6204621556 | 0.9335 | 1.1409237
6204621561 | 0.9335 | 1.1409237
6204621566 | 0.9335 | 1.1409237
6204625000 | 0.8681 | 1.0609918
6204626005 | 0.7077 | 0.8649509
6204626010 | 0.9436 | 1.1532679
6204626025 | 0.9436 | 1.1532679
6204626050 | 0.9436 | 1.1532679
6204627000 | 1.1796 | 1.4417071
6204628003 | 1.0616 | 1.2974875
6204628006 | 1.1796 | 1.4417071
6204628011 | 1.1796 | 1.4417071
6204628021 | 0.9436 | 1.1532679
6204628026 | 1.1796 | 1.4417071
6204628031 | 1.1796 | 1.4417071
6204628036 | 1.1796 | 1.4417071
6204628041 | 1.1796 | 1.4417071
6204628046 | 0.9436 | 1.1532679
6204628051 | 0.9436 | 1.1532679
6204628056 | 0.9335 | 1.1409237
6204628061 | 0.9335 | 1.1409237
6204628066 | 0.9335 | 1.1409237
6204630100 | 0.2019 | 0.2467622
6204630200 | 0.118 | 0.1442196
6204630305 | 0.118 | 0.1442196
6204630310 | 0.2359 | 0.2883170
6204630325 | 0.2359 | 0.2883170
6204630350 | 0.2359 | 0.2883170
6204630810 | 0.059 | 0.0721098
6204630820 | 0.059 | 0.0721098
6204630910 | 0.0603 | 0.0736987
6204630990 | 0.0603 | 0.0736987
6204631110 | 0.2412 | 0.2947946
6204631125 | 0.2412 | 0.2947946
6204631130 | 0.2412 | 0.2947946
6204631132 | 0.2309 | 0.2822060
6204631135 | 0.2309 | 0.2822060
6204631140 | 0.2309 | 0.2822060
6204635000 | 0.2019 | 0.2467622
6204635500 | 0.118 | 0.1442196
6204636005 | 0.118 | 0.1442196
6204636010 | 0.2359 | 0.2883170
6204636025 | 0.2359 | 0.2883170
6204636050 | 0.2359 | 0.2883170
6204636500 | 0.4718 | 0.5766340
6204637010 | 0.059 | 0.0721098
6204637020 | 0.059 | 0.0721098
6204637510 | 0.0603 | 0.0736987
6204637590 | 0.0603 | 0.0736987
6204639010 | 0.2412 | 0.2947946
6204639025 | 0.2412 | 0.2947946
6204639030 | 0.2412 | 0.2947946
6204639032 | 0.2309 | 0.2822060
6204639035 | 0.2309 | 0.2822060
6204639040 | 0.2309 | 0.2822060
6204690105 | 0.118 | 0.1442196
6204690110 | 0.2359 | 0.2883170
6204690110 | 0.2359 | 0.2883170
6204690125 | 0.2359 | 0.2883170
6204690150 | 0.2359 | 0.2883170
6204690210 | 0.059 | 0.0721098
6204690220 | 0.059 | 0.0721098
6204690230 | 0.059 | 0.0721098
6204690310 | 0.2359 | 0.2883170
6204690320 | 0.2359 | 0.2883170
6204690330 | 0.2359 | 0.2883170
6204690340 | 0.2309 | 0.2822060
6204690350 | 0.2309 | 0.2822060
6204690360 | 0.2309 | 0.2822060
6204690510 | 0.5308 | 0.6487438
6204690530 | 0.2359 | 0.2883170
6204690570 | 0.3539 | 0.4325366
6204690610 | 0.5308 | 0.6487438
6204690630 | 0.2359 | 0.2883170
6204690644 | 0.2359 | 0.2883170
6204690646 | 0.2359 | 0.2883170
6204690650 | 0.3539 | 0.4325366
6204691505 | 0.118 | 0.1442196
6204691510 | 0.2359 | 0.2883170
6204691525 | 0.2359 | 0.2883170
6204691525 | 0.2359 | 0.2883170
6204691550 | 0.2359 | 0.2883170
6204692210 | 0.059 | 0.0721098
6204692220 | 0.059 | 0.0721098
6204692230 | 0.059 | 0.0721098
6204692810 | 0.2359 | 0.2883170
6204692820 | 0.2359 | 0.2883170
6204692830 | 0.2359 | 0.2883170
6204692840 | 0.2309 | 0.2822060
6204692850 | 0.2309 | 0.2822060
6204692860 | 0.2309 | 0.2822060
6204696510 | 0.5308 | 0.6487438
6204696530 | 0.2359 | 0.2883170
6204696570 | 0.3539 | 0.4325366
6204698010 | 0.5308 | 0.6487438
6204698030 | 0.2359 | 0.2883170
6204698044 | 0.2359 | 0.2883170
6204698046 | 0.2359 | 0.2883170
6204698050 | 0.3539 | 0.4325366
6205201000 | 1.1796 | 1.4417071
6205202003 | 0.9436 | 1.1532679
6205202016 | 0.9436 | 1.1532679
6205202021 | 0.9436 | 1.1532679
6205202026 | 0.9436 | 1.1532679
6205202031 | 0.9436 | 1.1532679
6205202036 | 1.0616 | 1.2974875
6205202041 | 1.0616 | 1.2974875
6205202044 | 1.0616 | 1.2974875
6205202047 | 0.9436 | 1.1532679
6205202051 | 0.9436 | 1.1532679
6205202056 | 0.9436 | 1.1532679
6205202061 | 0.9436 | 1.1532679
6205202066 | 0.9436 | 1.1532679
6205202071 | 0.9436 | 1.1532679
6205202076 | 0.9436 | 1.1532679
6205301000 | 0.4128 | 0.5045242
6205302010 | 0.2949 | 0.3604268
6205302020 | 0.2949 | 0.3604268
6205302030 | 0.2949 | 0.3604268
6205302040 | 0.2949 | 0.3604268
6205302050 | 0.2949 | 0.3604268
6205302055 | 0.2949 | 0.3604268
6205302060 | 0.2949 | 0.3604268
6205302070 | 0.2949 | 0.3604268
6205302075 | 0.2949 | 0.3604268
6205302080 | 0.2949 | 0.3604268
6205900710 | 0.118 | 0.1442196
6205900720 | 0.118 | 0.1442196
6205901000 | 0.2359 | 0.2883170
6205903010 | 0.5308 | 0.6487438
6205903030 | 0.2359 | 0.2883170
6205903050 | 0.1769 | 0.2162072
6205904010 | 0.5308 | 0.6487438
6205904030 | 0.2359 | 0.2883170
6205904040 | 0.2359 | 0.2883170
6206100010 | 0.5308 | 0.6487438
6206100030 | 0.2359 | 0.2883170
6206100040 | 0.118 | 0.1442196
6206100050 | 0.2359 | 0.2883170
6206203010 | 0.059 | 0.0721098
6206203020 | 0.059 | 0.0721098
6206301000 | 1.1796 | 1.4417071
6206302000 | 0.6488 | 0.7929634
6206303003 | 0.9436 | 1.1532679
6206303011 | 0.9436 | 1.1532679
6206303021 | 0.9436 | 1.1532679
6206303031 | 0.9436 | 1.1532679
6206303041 | 0.9436 | 1.1532679
6206303051 | 0.9436 | 1.1532679
6206303061 | 0.9436 | 1.1532679
6206401000 | 0.4128 | 0.5045242
6206403010 | 0.2949 | 0.3604268
6206403020 | 0.2949 | 0.3604268
6206403025 | 0.2949 | 0.3604268
6206403030 | 0.2949 | 0.3604268
6206403040 | 0.2949 | 0.3604268
6206403050 | 0.2949 | 0.3604268
6206900010 | 0.5308 | 0.6487438
6206900030 | 0.2359 | 0.2883170
6206900040 | 0.1769 | 0.2162072
6207110000 | 1.0281 | 1.2565438
6207199010 | 0.3427 | 0.4188479
6207199030 | 0.4569 | 0.5584232
6207210010 | 1.0502 | 1.2835544
6207210020 | 1.0502 | 1.2835544
6207210030 | 1.0502 | 1.2835544
6207210040 | 1.0502 | 1.2835544
6207220000 | 0.3501 | 0.4278922
6207291000 | 0.1167 | 0.1426307
6207299030 | 0.1167 | 0.1426307
6207911000 | 1.0852 | 1.3263314
6207913010 | 1.0852 | 1.3263314
6207913020 | 1.0852 | 1.3263314
6207997520 | 0.2412 | 0.2947946
6207998510 | 0.2412 | 0.2947946
6207998520 | 0.2412 | 0.2947946
6208110000 | 0.2412 | 0.2947946
6208192000 | 1.0852 | 1.3263314
6208195000 | 0.1206 | 0.1473973
6208199000 | 0.2412 | 0.2947946
6208210010 | 1.0026 | 1.2253777
6208210020 | 1.0026 | 1.2253777
6208210030 | 1.0026 | 1.2253777
6208220000 | 0.118 | 0.1442196
6208299030 | 0.2359 | 0.2883170
6208911010 | 1.0852 | 1.3263314
6208911020 | 1.0852 | 1.3263314
6208913010 | 1.0852 | 1.3263314
6208913020 | 1.0852 | 1.3263314
6208920010 | 0.1206 | 0.1473973
6208920020 | 0.1206 | 0.1473973
6208920030 | 0.1206 | 0.1473973
6208920040 | 0.1206 | 0.1473973
6208992010 | 0.0603 | 0.0736987
6208992020 | 0.0603 | 0.0736987
6208995010 | 0.2412 | 0.2947946
6208995020 | 0.2412 | 0.2947946
6208998010 | 0.2412 | 0.2947946
6208998020 | 0.2412 | 0.2947946
6209201000 | 1.0967 | 1.3403867
6209202000 | 1.039 | 1.2698658
6209203000 | 0.9236 | 1.1288239
6209205030 | 0.9236 | 1.1288239
6209205035 | 0.9236 | 1.1288239
6209205045 | 0.9236 | 1.1288239
6209205050 | 0.9236 | 1.1288239
6209301000 | 0.2917 | 0.3565157
6209302000 | 0.2917 | 0.3565157
6209303010 | 0.2334 | 0.2852615
6209303020 | 0.2334 | 0.2852615
6209303030 | 0.2334 | 0.2852615
6209303040 | 0.2334 | 0.2852615
6209900500 | 0.1154 | 0.1410419
6209901000 | 0.2917 | 0.3565157
6209902000 | 0.2917 | 0.3565157
6209903010 | 0.2917 | 0.3565157
6209903015 | 0.2917 | 0.3565157
6209903020 | 0.2917 | 0.3565157
6209903030 | 0.2917 | 0.3565157
6209903040 | 0.2917 | 0.3565157
6210109010 | 0.217 | 0.2652174
6210109040 | 0.217 | 0.2652174
6210203000 | 0.0362 | 0.0442436
6210205000 | 0.0844 | 0.1031537
6210207000 | 0.1809 | 0.2210960
6210303000 | 0.0362 | 0.0442436
6210305000 | 0.0844 | 0.1031537
6210307000 | 0.0362 | 0.0442436
6210309020 | 0.422 | 0.5157684
6210401500 | 0.037 | 0.0452214
6210402520 | 0.4316 | 0.5275015
6210402531 | 0.0863 | 0.1054759
6210402539 | 0.0863 | 0.1054759
6210402540 | 0.4316 | 0.5275015
6210402550 | 0.4316 | 0.5275015
6210402800 | 0.111 | 0.1356642
6210402925 | 0.111 | 0.1356642
6210402933 | 0.111 | 0.1356642
6210402945 | 0.111 | 0.1356642
6210402960 | 0.111 | 0.1356642
6210403500 | 0.037 | 0.0452214
6210405520 | 0.4316 | 0.5275015
6210405531 | 0.0863 | 0.1054759
6210405539 | 0.0863 | 0.1054759
6210405540 | 0.4316 | 0.5275015
6210405550 | 0.4316 | 0.5275015
6210407500 | 0.111 | 0.1356642
6210408025 | 0.111 | 0.1356642
6210408033 | 0.111 | 0.1356642
6210408045 | 0.111 | 0.1356642
6210408060 | 0.111 | 0.1356642
6210500300 | 0.037 | 0.0452214
6210500520 | 0.0863 | 0.1054759
6210500531 | 0.0863 | 0.1054759
6210500539 | 0.0863 | 0.1054759
6210500540 | 0.0863 | 0.1054759
6210500555 | 0.0863 | 0.1054759
6210501200 | 0.4316 | 0.5275015
6210502250 | 0.148 | 0.1808856
6210502260 | 0.148 | 0.1808856
6210502270 | 0.148 | 0.1808856
6210502290 | 0.148 | 0.1808856
6210503500 | 0.037 | 0.0452214
6210505520 | 0.0863 | 0.1054759
6210505531 | 0.0863 | 0.1054759
6210505539 | 0.0863 | 0.1054759
6210505540 | 0.0863 | 0.1054759
6210505555 | 0.0863 | 0.1054759
6210507500 | 0.4316 | 0.5275015
6210508050 | 0.148 | 0.1808856
6210508060 | 0.148 | 0.1808856
6210508070 | 0.148 | 0.1808856
6210508090 | 0.148 | 0.1808856
6211111010 | 0.1206 | 0.1473973
6211111020 | 0.1206 | 0.1473973
6211118010 | 1.0852 | 1.3263314
6211118020 | 1.0852 | 1.3263314
6211118040 | 0.2412 | 0.2947946
6211121010 | 0.0603 | 0.0736987
6211121020 | 0.0603 | 0.0736987
6211128010 | 1.0852 | 1.3263314
6211128020 | 1.0852 | 1.3263314
6211128030 | 0.6029 | 0.7368644
6211200410 | 0.7717 | 0.9431717
6211200420 | 0.0965 | 0.1179423
6211200430 | 0.7717 | 0.9431717
6211200440 | 0.0965 | 0.1179423
6211200810 | 0.3858 | 0.4715248
6211200820 | 0.3858 | 0.4715248
6211201510 | 0.7615 | 0.9307053
6211201515 | 0.2343 | 0.2863615
6211201520 | 0.6443 | 0.7874635
6211201525 | 0.2929 | 0.3579824
6211201530 | 0.7615 | 0.9307053
6211201535 | 0.3515 | 0.4296033
6211201540 | 0.7615 | 0.9307053
6211201545 | 0.2929 | 0.3579824
6211201550 | 0.7615 | 0.9307053
6211201555 | 0.41 | 0.5011020
6211201560 | 0.7615 | 0.9307053
6211201565 | 0.2343 | 0.2863615
6211202400 | 0.1233 | 0.1506973
6211202810 | 0.8016 | 0.9797155
6211202820 | 0.2466 | 0.3013945
6211202830 | 0.3083 | 0.3768043
6211203400 | 0.1233 | 0.1506973
6211203810 | 0.8016 | 0.9797155
6211203820 | 0.2466 | 0.3013945
6211203830 | 0.3083 | 0.3768043
6211204400 | 0.1233 | 0.1506973
6211204815 | 0.8016 | 0.9797155
6211204835 | 0.2466 | 0.3013945
6211204860 | 0.3083 | 0.3768043
6211205400 | 0.1233 | 0.1506973
6211205810 | 0.8016 | 0.9797155
6211205820 | 0.2466 | 0.3013945
6211205830 | 0.3083 | 0.3768043
6211206400 | 0.1233 | 0.1506973
6211206810 | 0.8016 | 0.9797155
6211206820 | 0.2466 | 0.3013945
6211206830 | 0.3083 | 0.3768043
6211207400 | 0.1233 | 0.1506973
6211207810 | 0.9249 | 1.1304128
6211207820 | 0.2466 | 0.3013945
6211207830 | 0.3083 | 0.3768043
6211325003 | 0.6412 | 0.7836746
6211325007 | 0.8016 | 0.9797155
6211325010 | 0.9865 | 1.2057003
6211325015 | 0.9865 | 1.2057003
6211325025 | 0.9865 | 1.2057003
6211325030 | 0.9249 | 1.1304128
6211325040 | 0.9249 | 1.1304128
6211325050 | 0.9249 | 1.1304128
6211325060 | 0.9249 | 1.1304128
6211325070 | 0.9249 | 1.1304128
6211325075 | 0.9249 | 1.1304128
6211325081 | 0.9249 | 1.1304128
6211329003 | 0.6412 | 0.7836746
6211329007 | 0.8016 | 0.9797155
6211329010 | 0.9865 | 1.2057003
6211329015 | 0.9865 | 1.2057003
6211329025 | 0.9865 | 1.2057003
6211329030 | 0.9249 | 1.1304128
6211329040 | 0.9249 | 1.1304128
6211329050 | 0.9249 | 1.1304128
6211329060 | 0.9249 | 1.1304128
6211329070 | 0.9249 | 1.1304128
6211329075 | 0.9249 | 1.1304128
6211329081 | 0.9249 | 1.1304128
6211335003 | 0.0987 | 0.1206311
6211335007 | 0.1233 | 0.1506973
6211335010 | 0.3083 | 0.3768043
6211335015 | 0.3083 | 0.3768043
6211335017 | 0.3083 | 0.3768043
6211335025 | 0.37 | 0.4522140
6211335030 | 0.37 | 0.4522140
6211335035 | 0.37 | 0.4522140
6211335040 | 0.37 | 0.4522140
6211335054 | 0.37 | 0.4522140
6211335058 | 0.37 | 0.4522140
6211335061 | 0.37 | 0.4522140
6211339003 | 0.0987 | 0.1206311
6211339007 | 0.1233 | 0.1506973
6211339010 | 0.3083 | 0.3768043
6211339015 | 0.3083 | 0.3768043
6211339017 | 0.3083 | 0.3768043
6211339025 | 0.37 | 0.4522140
6211339030 | 0.37 | 0.4522140
6211339035 | 0.37 | 0.4522140
6211339040 | 0.37 | 0.4522140
6211339054 | 0.37 | 0.4522140
6211339058 | 0.37 | 0.4522140
6211339061 | 0.37 | 0.4522140
6211390310 | 0.1233 | 0.1506973
6211390320 | 0.1233 | 0.1506973
6211390330 | 0.1233 | 0.1506973
6211390340 | 0.1233 | 0.1506973
6211390345 | 0.1233 | 0.1506973
6211390351 | 0.1233 | 0.1506973
6211391510 | 0.2466 | 0.3013945
6211391520 | 0.2466 | 0.3013945
6211391530 | 0.2466 | 0.3013945
6211391540 | 0.2466 | 0.3013945
6211391550 | 0.2466 | 0.3013945
6211391560 | 0.2466 | 0.3013945
6211391570 | 0.2466 | 0.3013945
6211391590 | 0.2466 | 0.3013945
6211393010 | 0.1233 | 0.1506973
6211393020 | 0.1233 | 0.1506973
6211393030 | 0.1233 | 0.1506973
6211393040 | 0.1233 | 0.1506973
6211393045 | 0.1233 | 0.1506973
6211393051 | 0.1233 | 0.1506973
6211398010 | 0.2466 | 0.3013945
6211398020 | 0.2466 | 0.3013945
6211398030 | 0.2466 | 0.3013945
6211398040 | 0.2466 | 0.3013945
6211398050 | 0.2466 | 0.3013945
6211398060 | 0.2466 | 0.3013945
6211398070 | 0.2466 | 0.3013945
6211398090 | 0.2466 | 0.3013945
6211420503 | 0.6412 | 0.7836746
6211420507 | 0.8016 | 0.9797155
6211420510 | 0.9865 | 1.2057003
6211420520 | 0.9865 | 1.2057003
6211420525 | 1.1099 | 1.3565198
6211420530 | 0.8632 | 1.0550030
6211420540 | 0.9865 | 1.2057003
6211420554 | 1.1099 | 1.3565198
6211420556 | 1.1099 | 1.3565198
6211420560 | 0.9865 | 1.2057003
6211420570 | 1.1099 | 1.3565198
6211420575 | 1.1099 | 1.3565198
6211420581 | 1.1099 | 1.3565198
6211421003 | 0.6412 | 0.7836746
6211421007 | 0.8016 | 0.9797155
6211421010 | 0.9865 | 1.2057003
6211421020 | 0.9865 | 1.2057003
6211421025 | 1.1099 | 1.3565198
6211421030 | 0.8632 | 1.0550030
6211421040 | 0.9865 | 1.2057003
6211421054 | 1.1099 | 1.3565198
6211421056 | 1.1099 | 1.3565198
6211421060 | 0.9865 | 1.2057003
6211421070 | 1.1099 | 1.3565198
6211421075 | 1.1099 | 1.3565198
6211421081 | 1.1099 | 1.3565198
6211430503 | 0.0987 | 0.1206311
6211430507 | 0.1233 | 0.1506973
6211430510 | 0.2466 | 0.3013945
6211430520 | 0.2466 | 0.3013945
6211430530 | 0.2466 | 0.3013945
6211430540 | 0.2466 | 0.3013945
6211430550 | 0.2466 | 0.3013945
6211430560 | 0.2466 | 0.3013945
6211430564 | 0.3083 | 0.3768043
6211430566 | 0.2466 | 0.3013945
6211430574 | 0.3083 | 0.3768043
6211430576 | 0.37 | 0.4522140
6211430578 | 0.37 | 0.4522140
6211430591 | 0.2466 | 0.3013945
6211431003 | 0.0987 | 0.1206311
6211431007 | 0.1233 | 0.1506973
6211431010 | 0.2466 | 0.3013945
6211431020 | 0.2466 | 0.3013945
6211431030 | 0.2466 | 0.3013945
6211431040 | 0.2466 | 0.3013945
6211431050 | 0.2466 | 0.3013945
6211431060 | 0.2466 | 0.3013945
6211431064 | 0.3083 | 0.3768043
6211431066 | 0.2466 | 0.3013945
6211431074 | 0.3083 | 0.3768043
6211431076 | 0.37 | 0.4522140
6211431078 | 0.37 | 0.4522140
6211431091 | 0.2466 | 0.3013945
6211492510 | 0.2466 | 0.3013945
6211492520 | 0.2466 | 0.3013945
6211492530 | 0.2466 | 0.3013945
6211492540 | 0.2466 | 0.3013945
6211492550 | 0.2466 | 0.3013945
6211492560 | 0.2466 | 0.3013945
6211492570 | 0.2466 | 0.3013945
6211492580 | 0.2466 | 0.3013945
6211492590 | 0.2466 | 0.3013945
6211498010 | 0.2466 | 0.3013945
6211498020 | 0.2466 | 0.3013945
6211498030 | 0.2466 | 0.3013945
6211498040 | 0.2466 | 0.3013945
6211498050 | 0.2466 | 0.3013945
6211498060 | 0.2466 | 0.3013945
6211498070 | 0.2466 | 0.3013945
6211498080 | 0.2466 | 0.3013945
6211498090 | 0.2466 | 0.3013945
6212105010 | 0.9138 | 1.1168464
6212105020 | 0.2285 | 0.2792727
6212105030 | 0.2285 | 0.2792727
6212109010 | 0.9138 | 1.1168464
6212109020 | 0.2285 | 0.2792727
6212109040 | 0.2285 | 0.2792727
6212200010 | 0.6854 | 0.8376959
6212200020 | 0.2856 | 0.3490603
6212200030 | 0.1142 | 0.1395752
6212300010 | 0.6854 | 0.8376959
6212300020 | 0.2856 | 0.3490603
6212300030 | 0.1142 | 0.1395752
6212900010 | 0.1828 | 0.2234182
6212900020 | 0.1828 | 0.2234182
6212900030 | 0.1828 | 0.2234182
6212900050 | 0.0914 | 0.1117091
6212900090 | 0.4112 | 0.5025686
6213201000 | 1.1187 | 1.3672751
6213202000 | 1.0069 | 1.2306332
6213900700 | 0.4475 | 0.5469345
6213901000 | 0.4475 | 0.5469345
6213902000 | 0.3356 | 0.4101703
6214300000 | 0.1142 | 0.1395752
6214400000 | 0.1142 | 0.1395752
6214900010 | 0.8567 | 1.0470587
6214900090 | 0.2285 | 0.2792727
6215100025 | 0.1142 | 0.1395752
6215200000 | 0.1142 | 0.1395752
6215900015 | 1.0281 | 1.2565438
6216000800 | 0.0685 | 0.0837207
6216001300 | 0.3427 | 0.4188479
6216001720 | 0.6397 | 0.7818413
6216001730 | 0.1599 | 0.1954298
6216001900 | 0.3427 | 0.4188479
6216002110 | 0.578 | 0.7064316
6216002120 | 0.2477 | 0.3027389
6216002410 | 0.6605 | 0.8072631
6216002425 | 0.1651 | 0.2017852
6216002600 | 0.1651 | 0.2017852
6216002910 | 0.6605 | 0.8072631
6216002925 | 0.1651 | 0.2017852
6216003100 | 0.1651 | 0.2017852
6216003300 | 0.5898 | 0.7208536
6216003500 | 0.5898 | 0.7208536
6216003800 | 1.1796 | 1.4417071
6216004100 | 1.1796 | 1.4417071
6217109510 | 0.9646 | 1.1789341
6217109520 | 0.1809 | 0.2210960
6217109530 | 0.2412 | 0.2947946
6217909003 | 0.9646 | 1.1789341
6217909005 | 0.1809 | 0.2210960
6217909010 | 0.2412 | 0.2947946
6217909025 | 0.9646 | 1.1789341
6217909030 | 0.1809 | 0.2210960
6217909035 | 0.2412 | 0.2947946
6217909050 | 0.9646 | 1.1789341
6217909055 | 0.1809 | 0.2210960
6217909060 | 0.2412 | 0.2947946
6217909075 | 0.9646 | 1.1789341
6217909080 | 0.1809 | 0.2210960
6217909085 | 0.2412 | 0.2947946
6301300010 | 0.8305 | 1.0150371
6301300020 | 0.8305 | 1.0150371
6301900030 | 0.2215 | 0.2707173
6302100005 | 1.1073 | 1.3533421
6302100008 | 1.1073 | 1.3533421
6302100015 | 1.1073 | 1.3533421
6302213010 | 1.1073 | 1.3533421
6302213020 | 1.1073 | 1.3533421
6302213030 | 1.1073 | 1.3533421
6302213040 | 1.1073 | 1.3533421
6302213050 | 1.1073 | 1.3533421
6302215010 | 0.7751 | 0.9473272
6302215020 | 0.7751 | 0.9473272
6302215030 | 0.7751 | 0.9473272
6302215040 | 0.7751 | 0.9473272
6302215050 | 0.7751 | 0.9473272
6302217010 | 1.1073 | 1.3533421
6302217020 | 1.1073 | 1.3533421
6302217030 | 1.1073 | 1.3533421
6302217040 | 1.1073 | 1.3533421
6302217050 | 1.1073 | 1.3533421
6302219010 | 0.7751 | 0.9473272
6302219020 | 0.7751 | 0.9473272
6302219030 | 0.7751 | 0.9473272
6302219040 | 0.7751 | 0.9473272
6302219050 | 0.7751 | 0.9473272
6302221010 | 0.5537 | 0.6767321
6302221020 | 0.3876 | 0.4737247
6302221030 | 0.5537 | 0.6767321
6302221040 | 0.3876 | 0.4737247
6302221050 | 0.3876 | 0.4737247
6302221060 | 0.3876 | 0.4737247
6302222010 | 0.3876 | 0.4737247
6302222020 | 0.3876 | 0.4737247
6302222030 | 0.3876 | 0.4737247
6302290020 | 0.2215 | 0.2707173
6302313010 | 1.1073 | 1.3533421
6302313020 | 1.1073 | 1.3533421
6302313030 | 1.1073 | 1.3533421
6302313040 | 1.1073 | 1.3533421
6302313050 | 1.1073 | 1.3533421
6302315010 | 0.7751 | 0.9473272
6302315020 | 0.7751 | 0.9473272
6302315030 | 0.7751 | 0.9473272
6302315040 | 0.7751 | 0.9473272
6302315050 | 0.7751 | 0.9473272
6302317010 | 1.1073 | 1.3533421
6302317020 | 1.1073 | 1.3533421
6302317030 | 1.1073 | 1.3533421
6302317040 | 1.1073 | 1.3533421
6302317050 | 1.1073 | 1.3533421
6302319010 | 0.7751 | 0.9473272
6302319020 | 0.7751 | 0.9473272
6302319030 | 0.7751 | 0.9473272
6302319040 | 0.7751 | 0.9473272
6302319050 | 0.7751 | 0.9473272
6302321010 | 0.5537 | 0.6767321
6302321020 | 0.3876 | 0.4737247
6302321030 | 0.5537 | 0.6767321
6302321040 | 0.3876 | 0.4737247
6302321050 | 0.3876 | 0.4737247
6302321060 | 0.3876 | 0.4737247
6302322010 | 0.5537 | 0.6767321
6302322020 | 0.3876 | 0.4737247
6302322030 | 0.5537 | 0.6767321
6302322040 | 0.3876 | 0.4737247
6302322050 | 0.3876 | 0.4737247
6302322060 | 0.3876 | 0.4737247
6302390030 | 0.2215 | 0.2707173
6302402010 | 0.9412 | 1.1503346
6302511000 | 0.5537 | 0.6767321
6302512000 | 0.8305 | 1.0150371
6302513000 | 0.5537 | 0.6767321
6302514000 | 0.7751 | 0.9473272
6302593020 | 0.5537 | 0.6767321
6302600010 | 1.1073 | 1.3533421
6302600020 | 0.9966 | 1.2180445
6302600030 | 0.9966 | 1.2180445
6302910005 | 0.9966 | 1.2180445
6302910015 | 1.1073 | 1.3533421
6302910025 | 0.9966 | 1.2180445
6302910035 | 0.9966 | 1.2180445
6302910045 | 0.9966 | 1.2180445
6302910050 | 0.9966 | 1.2180445
6302910060 | 0.9966 | 1.2180445
6302931000 | 0.4429 | 0.5413124
6302932000 | 0.4429 | 0.5413124
6302992000 | 0.2215 | 0.2707173
6303191100 | 0.8859 | 1.0827470
6303910010 | 0.609 | 0.7443198
6303910020 | 0.609 | 0.7443198
6303921000 | 0.2768 | 0.3383050
6303922010 | 0.2768 | 0.3383050
6303922030 | 0.2768 | 0.3383050
6303922050 | 0.2768 | 0.3383050
6303990010 | 0.2768 | 0.3383050
6304111000 | 0.9966 | 1.2180445
6304113000 | 0.1107 | 0.1352975
6304190500 | 0.9966 | 1.2180445
6304191000 | 1.1073 | 1.3533421
6304191500 | 0.3876 | 0.4737247
6304192000 | 0.3876 | 0.4737247
6304193060 | 0.2215 | 0.2707173
6304200020 | 0.8859 | 1.0827470
6304200070 | 0.2215 | 0.2707173
6304910120 | 0.8859 | 1.0827470
6304910170 | 0.2215 | 0.2707173
6304920000 | 0.8859 | 1.0827470
6304996040 | 0.2215 | 0.2707173
6505001515 | 1.1189 | 1.3675196
6505001525 | 0.5594 | 0.6836987
6505001540 | 1.1189 | 1.3675196
6505002030 | 0.9412 | 1.1503346
6505002060 | 0.9412 | 1.1503346
6505002545 | 0.5537 | 0.6767321
6507000000 | 0.3986 | 0.4871689
9404901000 | 0.2104 | 0.2571509
9404908020 | 0.9966 | 1.2180445
9404908040 | 0.9966 | 1.2180445
9404908505 | 0.6644 | 0.8120297
9404908536 | 0.0997 | 0.1218533
9404909505 | 0.6644 | 0.8120297
9404909570 | 0.2658 | 0.3248608
9619002100 | 0.8681 | 1.0609918
9619002500 | 0.1085 | 0.1326087
9619003100 | 0.9535 | 1.1653677
9619003300 | 1.1545 | 1.4110299
9619004100 | 0.2384 | 0.2913725
9619004300 | 0.2384 | 0.2913725
9619006100 | 0.8528 | 1.0422922
9619006400 | 0.2437 | 0.2978501
9619006800 | 0.3655 | 0.4467141
9619007100 | 1.1099 | 1.3565198
9619007400 | 0.2466 | 0.3013945
9619007800 | 0.2466 | 0.3013945
9619007900 | 0.2466 | 0.3013945

* * * * *

Authority: 7 U.S.C. 2101-2118.

Dated: October 8, 2019.
Bruce Summers,
Administrator.

[FR Doc. 2019-22364 Filed 10-11-19; 8:45 am]

BILLING CODE 3410-02-P